DEPARTMENT OF THE INTERIOR

Bureau of Indian Affairs

Indian Child Welfare Act; Receipt of Designated Tribal Agents for Service of Notice

AGENCY: Bureau of Indians Affairs, Interior.

ACTION: Notice.

SUMMARY: This notice is published in exercise of authority delegated by the Secretary of the Interior to the Principal Deputy Assistant Secretary—Indian Affairs by 209 DM 8.

The regulations implementing the Indian Child Welfare Act provide that Indian tribes may designate an agent other than the tribal chairman for service of notice of proceedings under the Act, 25 CFR 23.12. The Secretary of the Interior shall publish in the Federal Register on an annual basis the names and addresses of the designated agents.

This is the current list of Designated Tribal Agents for service of notice, and includes the listings of designated tribal agents received by the Secretary of the Interior prior to the date of this publication.

FOR FURTHER INFORMATION CONTACT: Evangeline M. Campbell, Indian Child Welfare Supervisory Social Worker, Bureau of Indian Affairs, Division of Social Services, 1951 Constitution Avenue, NW., Mail Stop 320-SIB, Washington, DC 20240; telephone: (202) 513-7623.

Dated: March 7, 2005.
Michael D. Olsen,
Acting Principal Deputy Assistant Secretary—Indian Affairs.

Alaska Region

Niles Cesar, Regional Director, Alaska Regional Office, P.O. Box 25520, 709 W. 9th, 3rd Floor, Federal Building, Juneau, AK 99802-5520; Telephone: (800) 645-8397; Fax: (907) 586-7252.

Gloria Kate Gorman, M.S.W., Human Services Director, P.O. Box 25520, 709 W. 9th, 3rd Floor, Federal Building, Juneau, AK 99802-5520; Telephone: (800) 645-8397 ext. 2; Fax: (907) 586-7057.

A

Native Village of Afognak, Vera Benedek, Special Projects Coordinator, 204 E. Rezanof, Suite 100, Kodiak, AK 99615; Telephone: (907) 486-6357, Fax: (907) 486-6529, email: tribe@afognak.org.

Agdaagux Tribe of King Cove, David Eguia, Tribal Representative, P.O. Box 249, King Cove, AK 99612, Telephone: (907) 497-2648, Fax: (907) 497-2803.

Native Village of Akhiok, Kathleen McInally, MSSW, Kodiak Area Native Association, 3449 E. Rezanof Drive, Kodiak, AK 99615; Telephone: (907) 486-9843, Fax: (907) 486-9886; email: Kathleen.mcinally@kanaweb.org.

Akiachak Native Community, Georgiann Wassilie, ICWA Program, P.O. Box 70, Akiachak, AK 99551-0070; Telephone: (907) 825-4626, Fax: (907) 825-4029, email: yupiat@unicom-alaska.com.

Akiak Native Community, Andrea Jasper and Sam Jackson II, P.O. Box 52127, Akiak, AK 99552; Telephone: (907) 765-7118/7112; Fax: (907) 765-7512; email: akiaknc@unicom-alaska.com.

Native Village of Akutan, Jacob Stepetin, Administrator, P.O. Box 89, Akutan, AK 99553; Phone: (907) 698-2300; Fax (907) 698-2301, email: akutanaleuttribe@gci.net, and Grace Smith, Tribal Representative, Aleutian/Pribilof Islands Association, 201 E. 3rd Ave., Anchorage, AK 99501; Telephone: (907) 276-2700 or 222-4236; Fax: (907) 279-4351; email: graces@apiai.org.

Native Village of Alakanuk, Agnes Phillip, P.O. Box 149, Alakanuk, AK 99554; Phone: (907) 238-3704; Fax: (907) 238-3429, email: agnes_phillip@avcp.org and Association of Village Council Presidents, ICWA Counsel, P.O. Box 219, Bethel, AK 99559; Telephone: (907) 543-7366; Fax: (907) 543-5759.

Alatna Village, Michelle Sam, Assistant Administrator or Valerie Bergman, Family Services Coordinator, P.O. Box 70, Allakaket, AK 99720; Phone: (907) 968-2261; Fax: (907) 968-2305 and Legal Department, Tanana Chiefs Conference, Inc., 122 First Avenue, Suite 600, Fairbanks, AK 99701; Telephone: (907) 452-8251 ext. 3177; Fax: (907) 459-3953.

Native Village of Aleknagik, Allen Ilutsik, Village Administrator, P.O. Box 115, Aleknagik, AK 99555, Phone: (907) 842-2080; Fax: (907) 842-2081 and Children's Services Program Manager, Bristol Bay Native Association, P.O. Box 310, 1500 Kanakanak Road, Dillingham, AK 99576; Telephone: (907) 842-4139; Fax: (907) 842-4106; email: cnixon@bbna.com.

Native Village of Algaaciq (St. Mary's), Francis Thompson, Tribal Administrator and Esther Tyson; ICWA Coordinator, P.O. Box 48, St. Mary's, AK 99658-0048; Phone: (907) 438-2335/2933; Fax: (907) 438-2227 and Association of Village Council Presidents, ICWA Counsel, P.O. Box 219, Bethel, AK 99559; Telephone: (907) 543-7366; Fax: (907) 543-5759.

Allakaket Village, Herbie Moses, 1st Chief, and Wilma David, Tribal Administrator, P.O. Box 50, Allakaket, AK 99720 Phone: (907) 968-2237; Fax: (907) 968-2233; email: wilmadavid@tananachiefs.org and Legal Department, Tanana Chiefs Conference, Inc., 122 First Avenue, Suite 600, Fairbanks, AK 99701; Telephone: (907) 452-8251; Fax: (907) 459-3953.

Native Village of Ambler, Mary J. Ramoth, ICWA Coordinator, Box 47, Ambler, AK 99786-0047; Telephone: (907) 445-2189; Fax: (907) 445-2257, email: mary.ramoth@ivisaappaat.org.

Village of Anaktuvuk Pass, Evelyn Mekiana, Tribal Administrator, P.O. Box 21065, Anaktuvuk Pass, AK 99721, Telephone: (907) 661-2575, Fax: (907) 661-2576, email: icasakp@astacalaska.net and Sharon Thompson, Arctic Slope Native Association, Social Services, P.O. Box 1232, Barrow, AK 99723; Telephone: (907) 852-2762; Fax: (907) 852-2105.

Yupiit of Andreafski, Charlene Smith, ICWA Program, P.O. Box 88, St. Mary's, AK 99658-0088; Telephone: (907) 438-2572; Fax: (907) 438-2512.

Angoon Community Association, Raynelle Jack, Executive Secretary, P.O. Box 190, Angoon, AK 99820; Telephone: (907) 788-3411; Fax: (907) 788-3412, email: rjack@angoon_ak.com.

Village of Aniak, Annie Morgan, Acting Tribal Administrator, ICWA Program, Box 349, Aniak, AK 99557; Telephone: (907) 675-4349; Fax (907) 675-4513, email: aniaktc@starband.net.

Anvik Village, Violet Kruger, Tribal Administrator, Acting Tribal Family & Youth Services Worker, P.O. Box 10, Anvik, AK 99558; Telephone: (907) 663-6322; Fax: (907) 663-6357; and Legal Department, Tanana Chiefs Conference, Inc., 122 First Avenue, Suite 600, Fairbanks, AK 99701; Telephone: (907) 452-8251; Fax: (907) 459-3953.

Native Village of Arctic Village, (See Native Village of Venetie Tribal Government) Asa'Carsarmiut Tribe (formerly Native Village of Mountain Village), Evelyn D. Peterson or Mabel A. Hess, ICWA Program, P.O. Box 32107, Mountain Village, AK 99632; Telephone: (907) 591-2428; Fax: (907) 591-2934; e-mail: atcicwa@starband.net

Native Village of Atka, Grace Smith, Tribal Representative, Aleutian/Pribilof Islands Association, 201 E. 3rd Avenue, Anchorage, AK 99501; Telephone: (907) 276-2700 or (907) 222-4236, Fax: (907) 279-4351; Email: graces@apiai.com.

Atmautluak Traditional Council, Louise G. Pavilla, ICWA Worker, P.O. Box 6568, Atmautluak, AK 99559; Telephone: (907) 553-5510; Fax: (907) 553-5150.

Native Village of Atqasuk Village (Atkasook), James Brower, President P.O. Box 91108, Atqasuk, AK 99791, Telephone: (907) 633-2575, Fax: (907) 633-2576; and Sharon Thompson, Arctic Slope Native Association, Social Services, P.O. Box 1232, Barrow, AK 99723; Phone: (907) 852-2762, Fax: (907) 852-2105.

B

Native Village of Barrow, Dorcas Stein, Director, Social Services, P.O. Box 1130, Barrow, AK 99723; Telephone: (907) 852-4411 ext. 208; Fax: (907) 852-4413, dstein@nvbarrow.net.

Native Village of Beaver Village, Arlene Pitka, ICWA Coordinator, P.O. Box 24002, Beaver, AK 99724, Telephone: (907) 628-6126, Fax: (907) 628-6815; and Legal Department, Tanana Chiefs Conference, Inc., 122 First Avenue, Suite 600, Fairbanks, AK 99701; Telephone (907) 452-8251 ext. 3177, Fax: (907) 452-3953.

Native Village of Belkosfski, Grace Smith, Tribal Representative, Aleutian/Pribilof Islands Association, 201 E. 3rd Avenue, Anchorage, AK 99501; Telephone: (907) 276-2700 or 222-4236; Fax: (907) 279-4351, email: graces@apiai.org.

Bethel Village (see Orutsararmuit)

Native Village of Bill Moore's Slough, Pauline Okitkun, Tribal Administrator, P.O. Box 20288, Keyes Korner #2, Kotlik, AK 99620; Telephone: (907) 899-4232, Fax: (907) 899-4461.

Birch Creek Tribe, Legal Department, Tanana Chiefs Conference, Inc., 122 First Avenue, Suite 600, Fairbanks, AK 99701; Telephone: (907) 452-8251 ext. 3177, Fax: (907) 459-3953.

Native Village of Brevig Mission, Linda M. Tocktoo, Tribal Family Coordinator, P.O. Box 39, Brevig Mission, AK 99785; Telephone: (907) 642-3012, Fax: (907) 642-2099; email: linda@kawerak.org.

Native Village of Buckland, Ethel Weber, Tribal Administrator, ICWA Program, P.O. Box 67, Buckland, AK 99727-0067; Telephone: (907) 494-2169; Fax: (907) 494-2217/2168.

C

Native Village of Cantwell, Angel Craig, Copper River Native Association, P.O. Box H, Copper Center, AK 99573; Telephone: (907) 822-5241 x 243; Fax: (907) 822-8801.

Central Council Tlingit and Haida Indian Tribes of Alaska, Indian Child Welfare Coordinator, 320 W. Willoughby Avenue, Suite 300, Juneau, AK 99801; Telephone; (907) 463-7163/7148; Fax: (907) 463-7343; email: mdoyle@ccthita.org.

Chalkyitsik Village Council, Melissa S. Peter, Social Services, P.O. Box 57, Chalkyitsik, AK 99788, Telephone: (907) 848-8117/8119, Fax: (907) 848-8986, and Legal Department, Tanana Chiefs Conference, Inc., 122 First Avenue, Suite 600, Fairbanks, AK 99701; Telephone (907) 452-8251 ext. 3177; Fax: (907) 459-3953.

Cheesh-na Tribe, (formerly Native Village of Chistochina), Elaine Sinyon, Tribal Administrator, P.O. Box 241, Gakona, AK 99586-0241; Telephone: (907) 822-3503; Fax: (907) 822-5179, email: esinyon@tribalnet.org.

Village of Chefornak, Edward Kinegak, ICWA Specialist, P.O. Box 110, Chefornak, AK 99561-0110; Telephone: (907) 867-8808/8850; Fax: (907) 867-8711, email: ekinegak@avcp.org and Association of Village Council Presidents, ICWA Counsel, P.O. Box 219, Bethel, AK 99559; Telephone (907) 543-7366; Fax: (907) 543-5759.

Native Village of Chenega, Norma Selanoff, ICWA Worker, P.O. Box 8079, Chenega Bay, AK 99574; Telephone: (907) 573-5386; Fax: (907) 573-5120; email: chenegaira@aol.com, and Paula Pinder, Chugachmiut, Inc., 4201 Tudor Centre Drive, Suite 210, Anchorage, AK 99508; Telephone (907) 562-4155; Fax: (907) 563-2891.

Chevak Native Village (AKA Qissunamiut Tribe), Esther Friday, ICWA Director, P.O. Box 140, Aurora Street, Chevak, AK 99563-0140; Telephone: (907) 858-7918; Fax: (907) 858-7919.

Chickaloon Native Village, Penny Westing, ICWA Case Manager, P.O. Box 1105, Chickaloon, AK 99674-1105; Telephone: (907) 745-0707; Fax: (907) 745-0709; email: pwesting@matnet.com or cvadmin@chickaloon.org

Native Village of Chignik, Tribal President, P.O. Box 50, Chignik, AK. 99564; Telephone: (907) 749-2445; Fax: (907) 749-2423; email: cbaytc@aol.com; and Children's Services Program Manager, Bristol Bay Native Association, P.O. Box 310, 1500 Kanakanak Road, Dillingham, AK 99576; Telephone (907) 842-4139; Fax: (907) 842-4106; email: cnixon@bbna.com.

Native Village of Chignik Lagoon, Angela Gregorio, Administrator, P.O. Box 9, Chignik Lagoon, AK 99565, Telephone: (907) 840-2281; Fax: (907) 840-2217, email: clve101@aol.com; and Children's Services Program Manager, Bristol Bay Native Association, P.O. Box 310, 1500 Kanakanak Road, Dillingham, AK 99576; Telephone: (907) 842-4139; Fax: (907) 842-4106; email: cnixon@bbna.com.

Chignik Lake Village, Father Michael Trefon, Tribal Children's Service Worker, P.O. Box 33, Chignik Lake, AK 99548; Telephone: (907) 845-2358; Fax: (907) 845-2246; and Children's Services Program Manager, Bristol Bay Native Association, P.O. Box 310, 1500 Kanakanak Road, Dillingham, AK 99576; Telephone: (907) 842-4139; Fax: (907) 842-4106; email: cnixon@bbna.com.

Chilkat Indian Village (Klukwan), Elizabeth Strong, Tribal Services Specialist, P.O. Box 210, Haines, AK 99827-0210; Telephone: (907) 767-5505; Fax: (907) 767-5408; email: 1strong@chilkatindianvillage.org.

Chilkoot Indian Association (Haines), Gregg Stuckey, Program Analyst, P.O. Box 490, Haines, AK 99827; Telephone: (907) 776-2323; Fax: (907) 776-2365; email: stuckey@aptalaska.net.

Chinik Eskimo Community (Golovin), Eleanor R. Amaktoolik, President, P.O. Box 62020, Golovin, AK 99762; and Sherri Lewis-Amaktoolik, Tribal Family Specialist, P.O. Box 62019, Golovin, AK 99762; Telephone: (907) 779-2214; Fax: (907) 779-2829; email: glv.tfc@kawerak.org.

Chistochina (see Cheesh-na)

Native Village of Chitina, Catherine Fletcher-Gilbert, Social Service Specialist/ICWA, P.O. Box 31, Chitina, AK 99566; Telephone: (907) 823-2287; Fax: (907) 823-2233.

Native Village of Chuathbaluk, Tracy M. Simeon, ICWA Counselor, P.O. Box CHU, Chuathbaluk, AK 99557; Telephone: (907) 467-4323; Fax: (907) 467-4113.

Native Village of Chuloonawick, Kathleen Blanket, Tribal Administrator, Box 245, Emmonak, AK 99581; Telephone: (907) 949-1345; Fax: (907) 949-1346; email: coffice@unicom-alaska.com.

Circle Native Community, Margaret M. Henry-John, Tribal Family & Youth Specialist, P.O. Box 89, Circle, AK 99733; Telephone: (907) 773-2822; Fax: (907) 773-2823/2820; and Legal Department, Tanana Chiefs Conference, Inc., 122 First Avenue, Suite 600, Fairbanks, AK 99701; Telephone: (907) 452-8251 ext. 3177, Fax: (907) 459-3953.

Village of Clarks Point, Betty Gardiner-Wassily, P.O. Box 90, Clarks Point, AK 99569; Telephone: (907) 236-1286; Fax: (907) 236-1449; and Children's Services Program Manager, Bristol Bay Native Association, P.O. Box 310, 1500 Kanakanak Road, Dillingham, AK 99576; Telephone: (907) 842-4139; Fax: (907) 842-4106; email: cnixon@bbna.com.

Copper Center (see Native Village of Kluti-Kaah)

Native Village of Council, Tribal Coordinator, P.O. Box 2050, Nome, AK 99762; Telephone: (907) 443-7649; Fax: (907) 443-5965, email: council@alaska.com.

Craig Community Association, Millie Stevens, Tribal President and Timothy R. Booth, Family Caseworker II, P.O. Box 746, Craig, AK 99921; Telephone: (907) 826-3948; Fax: (907) 826-5526; email: tbooth@ccthita.org

Village of Crooked Creek, Lorraine John, Council Member and Alex W. Felker, ICWA Case Worker, P.O. Box 69, Crooked Creek, AK 99575; Telephone: (907) 432-2200; Fax: (907) 432-2201; e-mail: cctc@starband.net

Curyung Tribal Council (formerly Native Village of Dillingham), Mr. Chris Itumulria, Tribal Children Service Worker, P.O. Box 216, Dillingham, AK 99576; Telephone: (907) 842-4508; Fax: (907) 842-4510, email: chrisi@starband.net, and Children's Services Program Manager, Bristol Bay Native Association, P.O. Box 310, 1500 Kanakanak Road, Dillingham, AK 99576; Telephone: (907) 842-4139; Fax: (907) 842-4106, email: cnixon@bbna.com.

D

Native Village of Deering, Emerson Moto, President and Roberta Moto, Administrator, P.O. Box 36089, Deering, AK 99736-0089; Telephone: (907) 363-2138; Fax: (907) 363-2195; email: Roberta.moto@ipnatchiaq.org.

Dillingham (See Curyung)

Native Village of Diomede, Becky Kunayak, ICWA Coordinator, P.O. Box 7079, Diomede, AK 99762; Telephone: (907) 686-2202; Fax: (907) 686-2203.

Village of Dot Lake, William Miller, President, P.O. Box 2279, Dot Lake, AK 99737-2275; Telephone: (907) 882-2695; Fax: (907) 882-5558; and Legal Department, Tanana Chiefs Conference, Inc., 122 1st Ave., Ste, 600, Fairbanks, AK 99701; Telephone: (907) 452-8251, ext. 3177, Fax: (907) 459-3953.

Douglas Indian Association, Carla A. Casulucan, Human Services Director, P.O. Box 240541, Douglas, AK 99824; Telephone: (907) 364-2916; Fax: (907) 364-2917; email: ccasulucan-dia@gci.net.

E

Native Village of Eagle, Isaac Juneby, Tribal Family Youth Services, P.O. Box 19, Eagle, AK 99738; Telephone: (907) 547-2271; Fax: (907) 547-2318; and Legal Department, Tanana Chiefs Conference, Inc., 122 1st Ave., Ste, 600, Fairbanks, AK 99701; Telephone: (907) 452-8251 ext. 3177, Fax: (907) 459-3953.

Native Village of Eek, Carlie Beebe, Tribal Administrator, P.O. Box 89, Eek, AK 99578-0063; Telephone: (907) 536-5128/5208; Fax: (907) 536-5711, email: cbeebe@avcp.org; and Association of Village Council Presidents, ICWA Counsel, P.O. Box 219, Bethel, AK 99559; Telephone: (907) 543-7366; Fax: (907) 543-5759.

Egegik Village, Charles Abalama, First Chief, P.O. Box 102, Egegik, AK 99579; Telephone: (907) 233-2211; Fax: (907) 233-2312; and Children's Services Program Manager, Bristol Bay Native Association, P.O. Box 310, 1500 Kanakanak Road, Dillingham, AK 99576; Telephone: (907) 842-4139; Fax: (907) 842-4106; email: cnixon@bbna.com.

Eklutna Native Village, Dawn Blankenship, 201 Barrow Street, Suite 102B-7, Anchorage, AK 99501; Telephone: (907) 278-5437, Fax: (907) 278-4293, email: nvecac.icwa@eklutna-nsn.gov.

Native Village of Ekuk, Brenda Mulkeit, Tribal Administrator, 300 Main St., Dillingham, AK 99576; Telephone: (907) 842-3842; Fax: (907) 842-3843; and Children's Services Program Manager, Bristol Bay Native Association, P.O. Box 310, 1500 Kanakanak Road, Dillingham, AK 99576; Telephone: (907) 842-4139; Fax: (907) 842-4106; email: cnixon@bbna.com.

Ekwok Village, Sandra Stermer, Tribal Children Service Worker, and Luki Akelkok, Sr., Tribal President, P.O. Box 70, Ekwok, AK 99580; Telephone: (907) 464-3349; Fax: (907) 464-3350; email: sstermer@starband.net; and Children's Services Program Manager, Bristol Bay Native Association, P.O. Box 310, 1500 Kanakanak Road, Dillingham, AK 99576; Telephone: (907) 842-4139; Fax: (907) 842-4106; email: cnixon@bbna.com.

Native Village of Elim, Joseph H. Murray, Tribal Family Coordinator, P.O. Box 39070, Elim, AK 99739-0070; Telephone: (907) 890-2457; Fax: (907) 890-2458, email: icwa.eli@kawerak.org.

Emmonak Village, Priscilla S. Kameroff, ICWA Coordinator, P.O. Box 126, Emmonak, AK 99581-0126; Telephone: (907) 949-1820; Fax: (907) 949-1384 email: etcadmin@unicom.alaska.com.

English Bay (see Native Village of Nanwalek)

Evansville Village, Brittany Lawson, Tribal Family Youth Services /ICWA, P.O. Box 26087, Bettles Field, AK 99726, Telephone: (907) 692-5005; Fax: (907) 692-5006; and Legal Department, Tanana Chiefs Conference, Inc., 122 First Avenue, Suite 600, Fairbanks, AK 99701; Telephone: (907) 452-8251 ext. 3177, Fax: (907) 459-3953.

Native Village of Eyak (Cordova), Collette Pettit, Tribal Court Clerk, P.O. Box 1388, Cordova, AK 99574; Telephone: (907) 424-7738, Fax: (907) 424-7739.

F

Native Village of False Pass, Grace Smith, Tribal Representative, Aleutian/Pribilof Islands Association, 201 E. 3rd Avenue, Anchorage, AK 99501; Telephone: (907) 276-2700 or 222-4236, Fax: (907) 279-4351, email: graces@apiai.org.

Native Village of Fort Yukon, Arlene Joseph, and Betty Flitt, ICWA Workers, and Shannon Hardy, Governance Director, P.O. Box 126, Fort Yukon, AK 99740; Telephone: (907) 662-3625, Fax: (907) 662-3118, and Legal Department, Tanana Chiefs Conference, Inc., 122 First Avenue, Suite 600, Fairbanks, AK 99701; Telephone: (907) 452-8251, ext. 3177, Fax: (907) 452-3883/3851.

Fortuna Ledge (See Native Village of Marshall)

G

Native Village of Gakona, Charlene Nollner, Tribal Administrator, P.O. Box 102, Gakona, AK 99586; Telephone: (907) 822-5777, Fax: (907) 822-5997, email: gakonaadmin@cvinternet.net, and Angel Craig, Social Services, Copper River Native Association, P.O. Box H, Copper Center, AK 99573; Telephone: (907) 822-5241 ext. 243, Fax: (907) 822-8801.

Galena Village (Louden), Ragine Pilot, Tribal Administrator, P.O. Box 244, Galena, AK 99741; Telephone: (907) 656-1711; Fax: (907) 656-1716; email: ragine.attla@tananachiefs.org; and Legal Department, Tanana Chiefs Conference, Inc., 122 First Avenue, Suite 600, Fairbanks, AK 99701; Telephone: (907) 452-8251 ext. 3177, Fax: (907) 452-3953.

Native Village of Gambell, Charlene Apangalook, ICWA Coordinator, P.O. Box 90, Gambell, AK 99742; Telephone: (907) 985-5346: Fax: (907) 985-5014; email: Gambell.IRA@gci.net.

Native Village of Georgetown, Glenn Fredericks, President, 1400 Virginia Ct., Anchorage, AK 99501; Telephone: (907) 274-2195; Fax: (907) 274-2196, email: gtc@gci.net.

Golovin (see Chinik Eskimo Community)

Native Village of Goodnews Bay, Human Services Director, P.O. Box 138, Goodnews Bay, AK 99589, Telephone: (907) 967-8929; Fax: (907) 967-8330.

Organized Village of Grayling, Sue Ann Gochenauer, Tribal Family Youth Services, P.O. Box 49, Grayling, AK 99590, Telephone: (907) 453-5142, Fax: (907) 453-5146, email: sue.gochenauer@tananachiefs.org; and Legal Department, Tanana Chiefs Conference, Inc., 122 First Avenue, Suite 600, Fairbanks, AK 99701; Telephone: (907) 452-8251 ext. 3177, Fax: (907) 459-3953.

Gulkana Village, Mr. LaMonica Claw, Tribal Administrator, and George McCoy, ICWA Worker, P.O. Box 254, Gakona, AK 99586-0254; Telephone: (907) 822-3746; Fax: (907) 822-3976, email: icwa@gulkanacouncil.org.

H

Haines (See Chilkoot Indian Association)

Native Village of Hamilton, Henrietta Teeluk, Tribal Administrator, P.O. Box 20248, Kotlik, AK 99620; Telephone: (907) 899-4252/4255, Fax: (907) 899-4202, email: hteeluk@avcp.org,

Healy Lake Village, Melissa Erickson, Tribal Family Youth Services, Council Member, P.O. Box 60300, Fairbanks, AK 99706; Telephone: (907) 876-5017 Fax: (907) 876-5013; and Legal Department, Tanana Chiefs Conference, Inc., 122 First Avenue, Suite 600, Fairbanks, AK 99701; Telephone: (907) 452-8251, ext. 3177, Fax: (907) 459-3953.

Holy Cross Village, Debbie Turner, Tribal Family Youth Specialist, P.O. Box 191, Holy Cross, AK. 99602; Telephone: (907) 476-7169; Fax: (907) 476-7132; and Legal Department, Tanana Chiefs Conference, Inc., 122 First Avenue, Suite 600, Fairbanks, AK 99701; Telephone: (907) 452-8251, ext. 3177, Fax: (907) 459-3953.

Hoonah Indian Association, Hattie Dalton, Director of Human Services, P.O. Box 602, Hoonah, AK 99829-0602; Telephone: (907) 945-3545; Fax: (907) 945-3703.

Native Village of Hooper Bay, Cheryl Smart, ICWA-Community Family Service Specialist, P.O. Box 62, Hooper Bay, AK 99604, Telephone: (907) 758-4006; Fax: (907) 758-4606; and Association of Village Council Presidents, ICWA Counsel, P.O. Box 219, Bethel, AK 99559; Telephone: (907) 543-7366; Fax: (907) 543-5759.

Hughes Village, Janet Bifelt, Tribal Administrator, P.O. Box 45029, Hughes, AK 99745; Telephone: (907) 889-2239 Fax; (907) 889-2252; email: janet.bifelt@tananachiefs.org; and Legal Department, Tanana Chiefs Conference, Inc., 122 First Avenue, Suite 600, Fairbanks, AK 99701; Telephone: (907) 452-8251 ext. 3177; Fax: (907) 459-3883/3851.

Huslia Village, William Derendoff, First Chief, P.O. Box 70, Huslia, AK 99746; Telephone: (907) 829-2294; Fax: (907) 829-2214; and Legal Department, Tanana Chiefs Conference, Inc., 122 First Avenue, Suite 600, Fairbanks, AK 99701; Telephone: (907) 452-8251, ext. 3177; Fax: (907) 459-3953.

Hydaburg Cooperative Association, Eileen J. Carle, Human Services Director, P.O. Box 206, Hydaburg, AK 99922; Telephone: (907) 285-3662; Fax: (907) 285-3470.

I

Igiugig Village, Bernadette Andrew, Social Services Director, P.O. Box 4008, Igiugig, AK 99613; Telephone: (907) 533-3211; Fax: (907) 533-3217; email: igiugig@starband.net; and Children's Services Program Manager, Bristol Bay Native Association, P.O. Box 310, 1500 Kanakanak Road, Dillingham, AK 99576, Telephone: (907) 842-4139, Fax: (907) 842-4106; email: cnixon@bbna.com.

Village of Iliamna, Gerald Anelon, Tribal Administrator, or Martha Anelon, ICWA Worker, P.O. Box 286, Iliamna, AK 99606-0286; Telephone: (907) 571-1246; Fax: (907) 571-1256.

Iqurmuit Traditional Council (formerly the Native Village of Russian Mission), Charity R. Askoar, ICWA Coordinator, P.O. Box 09, Russian Mission, AK 99657-0009; Telephone: (907) 584-5594; Fax: (907) 584-5593; and Association of Village Council Presidents, ICWA Counsel, P. O. Box 219, Bethel, AK 99559; Telephone: (907) 543-7366; Fax: (907) 543-5759.

Ivanoff Bay Village, Tribal President, P.O. Box 500, Perryville, AK, 99648; Telephone: (907) 669-2200; Fax: (907) 669-2207; and Children's Services Program Manager, Bristol Bay Native Association, P.O. Box 310, 1500 Kanakanak Road, Dillingham, AK 99576; Telephone: (907) 842-4139; Fax: (907) 842-4106; email: cnixon@bbna.com.

K

Kaguyak Village, ICWA Coordinator, 1400 West Benson Blvd, Suite 350, Anchorage, AK 99503; Telephone: (907) 561-0604; Fax: (907) 561-0608.

Organized Village of Kake, Anne Jackson Social Service Director, P.O. Box 316, Kake, AK 99830-0316; Telephone: (907) 785-6471; Fax: (907) 785-4902; and Kaktovik Village, Michael Pederson, Director of Social Services, Arctic Slope Native Association, P.O. Box 1232, Barrow, AK 99723; Telephone: (907) 852-2762; Fax: (907) 852-2763, email: mdperderson@asna.alaska.ihs.gov.

Village of Kalskag, (AKA Upper Kalskag), Darlene Christensen, Community Family Service Specialist, P.O. Box 50, Upper Kalskag, AK 99607; Telephone: (907) 471-2418 Fax: (907) 471-2399; and Association of Village Council Presidents, ICWA Counsel, P.O. Box 219 Bethel, AK 99559; Telephone (907) 543-7366; Fax: (907) 543-5759.

Village of Lower Kalskag, Lisa Holmberg, ICWA, Community Family Service Specialist, P.O. Box 27, Lower Kalskag, AK 99626; Telephone: (907) 471-2412; Fax: (907) 471-2412, email: lholmberg@avcp.org; and Association of Village Council Presidents, ICWA Counsel, P.O. Box 219, Bethel, AK 99559; Telephone: (907) 543-7366; Fax: (907) 543-5759.

Village of Kaltag, Donna L. Esmailka, Tribal Family Youth Specialist, P.O. Box 129, Kaltag, AK 99748; Telephone: (907) 534-2243; Fax: (907) 534-2264; and Legal Department, Tanana Chiefs Conference, Inc., 122 First Avenue, Suite 600, Fairbanks, AK 99701; Telephone: (907) 452-8251 ext. 3177; Fax: (907) 459-3953.

Native Village of Kanatak, Jennifer Rubino, Tribal Administrator, 645 G St. #817, Anchorage, AK 99501; Telephone: (907) 336-7271; Fax: (907) 336-7272; email: kanatak@acsalaska.net; and Children's Services Program Manager, Bristol Bay Native Association, P.O. Box 310,1500 Kanakanak Road, Dillingham, AK 99576; Telephone: (907) 842-4139; Fax: (907) 842-4106; email: cnixon@bbna.com.

Native Village of Karluk, Joyce E. Jones, P.O. Box 22, Karluk, AK 99608; Telephone: (907) 241-2218; Fax: (907) 241-2208.

Organized Village of Kasaan, Richard J. Peterson, President, P.O. Box KXA-Kasaan, Ketchikan, AK 99950-0340; Telephone: (907) 542-2230; Fax: (907) 542-3006.

Kashunamiut Tribe (see Chevak)

Native Village of Kasigluk, Lisa Martin, ICWA Worker, or Sharon G. Brink, P.O. Box 19, Kasigluk, AK 99609; Telephone: (907) 477-6418; Fax: (907) 477-6212.

Kenaitze Indian Tribe, Rita Smagge, Executive Director, and Kim Lindley, ICWA Program Director, P.O. Box 988, Kenai, AK 99611-0988; Telephone: (907) 283-3633/6423; Fax: (907) 283-3052/7088, email: rsmagge@pobox.alaska.net.

Ketchikan Indian Corporation, Esperanza Redelfs, LCSW, Clinical Director and Lynette R. Young, Family Specialist, 2960 Tongass Avenue, Ketchikan, AK 99901; Telephone: (907) 228-4917; Fax: (907) 247-4061, email: lyoung@kictribe.org, and eredelfs@kictribe.org.

Native Village of Kiana, Micheline Curtis, ICWA/Enrollment Coordinator, P.O. Box 69, Kiana, AK 99749-0069; Telephone: (907) 475-2226; Fax: (907) 475-2266; email: mcurtis@katyaaq.org.

King Cove (see Agdaagux)

King Island Native Community, Lisa Ellanna-Brandt, Tribal Family Coordinator, P.O. Box 948, Nome, AK 99762; Telephone: (907) 443-4394; Fax: (907) 443-4457.

King Salmon Tribe, Ralph Angasan, Jr., Administrator, P.O. Box 68, King Salmon, AK 99613; Telephone: (907) 246-3553; Fax: (907) 246-3449; email: kstvc@starband.net; and Children's Services Program Manager, Bristol Bay Native Association, P.O. Box 310, 1500 Kanakanak Road, Dillingham, AK 99576; Telephone: (907) 842-4139; Fax: (907) 842-4106; email: cnixon@bbna.com.

Native Village of Kipnuk, Jimmy Paul, Tribal Administrator, or Lucy M. Carl, ICWA Worker, P.O. Box 57, Kipnuk, AK 99614-0057; Telephone: (907) 896-5515; Fax: (907) 896-5240.

Native Village of Kivalina, Colleen E. Swan, Tribal Administrator, P.O. Box 50051, Kivalina, AK 99750; Telephone: (907) 645-2153; Fax: (907) 645-2193/2250.

Klawock Cooperative Association, Henrietta Kato and Cindy Mills, Tribal Family & Youth Services, Central Council Tlingit; and Haida Indian Tribes of Alaska, Box 173, Klawock, AK 99925; Telephone: (907) 755-2326; Fax: (907) 755-2647.

Kluckwan (see Chilkat Indian Village)

Native Village of Kluti-Kaah (Copper Center), Carol Clark, ICWA/Social Services, Copper River Native Association, P.O. Box H, Copper Center, AK 99573; Telephone: (907) 822-5241 ext. 243; Fax: (907) 822-8804, email: carol@copperriverna.org.

Knik Tribe, Christina Flowers, Interim Executive Director/ICWA Worker, P.O. Box 871565, Wasilla, AK 99687-1565; Telephone: (907) 373-7987; Fax: (907) 373-2161, email: cflowers@kniktribalcouncil.org.

Native Village of Kobuk, Loretta Garfield, ICWA Coordinator, P.O. Box 39, Kobuk, AK 99751-0039; Telephone: (907) 948-2255/2203; Fax: (907) 948-2355/2123; email: lpgarfield@manillaq.org.

Kodiak Tribal Council, (see Shoonaq Tribe of Kodiak)

Kokhanok Village, John Nelson, President, P.O. Box 1007, Kokhanok, AK 99606; Telephone: (907) 282-2202; Fax: (907) 282-2264; and Children's Services Program Manager, Bristol Bay Native Association, P.O. Box 310,1500 Kanakanak Road, Dillingham, AK 99559; Telephone: (907) 842-4139; Fax: (907) 842-4106; email: cnixon@bbna.com.

New Koliganek Village Council, Sally Larson, Tribal Children Service Worker, P.O. Box 5026, Koliganek AK 99576; Telephone: (907) 596-3425; Fax: (907) 596-3461; and Children's Services Program Manager, Bristol Bay Native Association, P.O. Box 310, 1500 Kanakanak Road, Dillingham, AK 99559; Telephone: (907) 842-4139; Fax: (907) 842-4106; email: cnixon@bbna.com.

Native Village of Kongiganak, Bertha Black, Tribal Administrator, and Roland P. Andrew, President, P.O. Box 5069, Kongiganak, AK 99559; Telephone: (907) 557-5226/5225; Fax: (907) 557-5224; email: bertha_black@avcp.org; and Association of Village Council Presidents, ICWA Counsel, P.O. Box 218, Bethel, AK 99559; Telephone: (907) 543-7366; Fax: (907) 543-5759.

Village of Kotlik, Martina Jack, ICWA Case Worker, P.O. Box 20210, Kotlik, AK 99620; Telephone: (907) 899-4459/4836; Fax: (907) 899-4459/4790, email: mjack@avcp.org; and Association of Village Council Presidents, ICWA Counsel, P.O. Box 219, Bethel, AK 99559; Telephone: (907) 543-7366; Fax: (907) 543-5759.

Native Village of Kotzebue, Ruth Nanouk, Human/Family Services Director, P.O. Box 296, Kotzebue, AK 99752-0296; Telephone: (907) 442-3467 ext. 1004; Fax: (907) 442-4013/2162; Toll Free: 1 (800) 442-3467; email: ruth.nanouk@qira.com.

Native Village of Koyuk, Leo M. Charles Sr., Tribal Family Coordinator, and Merlin Henry, Tribal President, P.O. Box 53030, Koyuk, AK 99753; Telephone: (907) 963-2215; Fax: (907) 963-2300; email: leo@kawerak.org.

Koyukuk Native Village, Percy Lolnitz, Sr., First Chief, P.O. Box 109, Koyukuk, AK 99754; Telephone: (907) 927-2222; Fax: (907) 927-2220; and Legal Department, Tanana Chiefs Conference, Inc., 122 First Avenue, Suite 600, Fairbanks, AK 99701; Telephone: (907) 452-8251 ext. 3177; Fax: (907) 459-3953.

Organized Village of Kwethluk, Chariton A. Epchook, ICWA Coordinator, P.O. Box 130, Kwethluk, AK 99621; Telephone: (907) 757-6043; Fax: (907) 757-6321.

Native Village of Kwigillingok, Andrew Beaver, ICWA Program Director, P.O. Box 69, Kwigillingok, AK 99622; Telephone: (907) 588-8705; Fax: (907) 588-8429.

Native Village of Kwinhagak, (A.K.A. Quinhagak), Wassilie Bavilla, President, and Fannie Hernandez, Health & Human Service Director, P.O. Box 149, Quinhagak, AK 99655-0149; Telephone: (907) 556-8167/8165; Fax: (907) 556-8521/8166, email: fhernandez@nvk.org.

L

Native Village of Larsen Bay, Marilyn Arneson, Executive Assistant, P.O. Box 35, Larsen Bay, AK 99624; Telephone: (907) 847-2207; Fax: (907) 847-2307, email: nativesoflarsenbay@starband.net.

Lesnoi Village (A.K.A, Woody Island), Maggie Rocheleau, Village Administrator, 3248 Mill Bay Road, Kodiak, AK 99615, Telephone: (907) 486-2821; Fax: (907) 486-2738; email: village@alaska.com.

Levelock Village, Jennie Apokedak, Tribal Administrator, P.O. Box 70, Levelock, AK 99625; Telephone: (907) 287-3030; Fax: (907) 287-3032; email: levelock@starband.net; and Children's Services Program Manager, Bristol Bay Native Association, P.O. Box 310, 1500 Kanakanak Road, Dillingham, AK 99576; Telephone: (907) 842-4139; Fax: (907) 842-4106; email: cnixon@bbna.com.

Lime Village, Anna M. Bobby, Administrator, ICWA Program, P.O. Box LVD, McGrath, AK 99627; Telephone: (907) 526-5236; Fax: (907) 526-5235.

Louden (See Galena)

M

Manley Hot Springs Village, Sabrenia Jervsjo, Tribal Family Youth Specialist, P.O. Box 105, Manley Hot Springs, AK 99756, Phone: (907) 672-7180; Fax: (907) 672-3200, email: sabrenia.jervsjo@tananachiefs.org, and Legal Department, Tanana Chiefs Conference, Inc., 122 First Avenue, Suite 600, Fairbanks, AK 99701; Phone: (907) 452-8251 ext. 3177; Fax: (907) 459-3953.

Manokotak Village, Michael Gloko, Sr., Tribal President, P.O. Box 169 Manokotak, AK 99628; and Bessie Toyukak, ICWA Worker, P.O. Box 133, Manokotak, AK. 99628 Telephone: (907) 289-2067; Fax: (907) 289-1235; and Children's Services Program Manager, Bristol Bay Native Association, P.O. Box 310, 1500 Kanakanak Road, Dillingham, AK 99576; Telephone: (907) 842-4139; Fax: (907) 842-4106; email: cnixon@bbna.com.

Native Village of Marshall (A.K.A. Fortuna Ledge), Valerie A. Andrew, Social Services Director, Box 110, Marshall, AK 99585; Telephone: (907) 679-6302/6128; Fax: (907) 679-6187.

Native Village of Mary's Igloo, Dolly Kugzruk, Tribal Family Coordinator, P.O. Box 629, Teller, AK 99778; Telephone: (907) 642-2185; Fax: (907) 642-3000.

McGrath Native Village, Legal Department, Tanana Chiefs Conference, Inc., 122 First Avenue, Suite 600, Fairbanks, AK 99701; Telephone: (907) 452-8251 ext. 3177; Fax: (907) 459-3953.

Native Village of Mekoryuk, Lillian Shavings, ICWA Coordinator, P.O. Box 66, Mekoryuk, AK 99630; Telephone: (907) 827-8827; Fax: (907) 827-8170.

Mentasta Traditional Council, Kathryn Martin, P.O. Box 6019, Mentasta Lake, AK 99780; Telephone: (907) 291-2328/2319; Fax: (907) 291-2305; email: kmartin@tribalnet.org

Metlakatla Indian Community, Annette Island Reserve, Karen Blandov-Thompson, Social Services Director, P.O. Box 8, Metlakatla, AK 99926; Telephone: (907) 886-6911; Fax: (907) 886-6913.

Native Village of Minto, Lori Baker, Tribal Court Clerk, P.O. Box 37, Minto, AK 99758; Telephone: (907) 798-7448; Fax: (907) 798-7450; and Legal Department, Tanana Chiefs Conference, Inc., 122 First Avenue, Suite 600, Fairbanks, AK 99701; Telephone: (907) 452-8251 ext. 3177; Fax: (907) 459-3953.

Mountain Village (See Asa'Carsarmiut Tribe)

N

Naknek Native Village, Linda Patterson, P.O. Box 106, Naknek, AK 99633; Telephone: (907) 246-4210; Fax: (907) 246-3563; email: nnvcak@bristolbay.com; and Children's Services Program Manager, Bristol Bay Native Association, P.O. Box 310, 1500 Kanakanak Road, Dillingham, AK 99576; Telephone: (907) 842-4139; Fax: (907) 842-4106; email: cnixon@bbna.com.

Native Village of Nanwalek (aka English Bay), Priscilla Evans, ICWA Coordinator/Council Member, P.O. Box 8021, Nanwalek, AK 99603-6021; Telephone: (907) 281-2274; Fax: (907) 281-2252.

Native Village of Napaimute, Marcie Sherer, President, and Mark Leary, Tribal Administrator, P.O. Box 1301, Bethel, AK 99559; Telephone: (907) 543-2887; (907) 467-6170; Fax: (907) 543-2892; (907) 467-6171; email: napaimute@avcp.org; and Association of Village Council Presidents, ICWA Counsel, P.O. Box 219, Bethel, AK 99559; Telephone: (907) 543-7366; Fax: (907) 543-5759.

Native Village of Napakiak, June Ayagalvia, Tribal Administrator, and Ms. Axinia Pitka, ICWA Specialist, P.O. Box 34069, Napakiak, AK 99634; Telephone: (907) 589-2815/2135; Fax: (907) 589-2814/2136; and Association of Village Council Presidents, ICWA Counsel, P.O. Box 219, Bethel, AK 99559; Telephone: (907) 543-7366; Fax: (907) 543-5759.

Native Village of Napaskiak, Helen Kaganak, Administrative Assistant and ICWA Program, P.O. Box 6009, Napaskiak, AK 99559; Telephone: (907) 737-7364; Fax: (907) 737-7039.

Native Village of Nelson Lagoon, Justine Gunderson or Nanette Johnson, P.O. Box 13, Nelson Lagoon, AK 99571; Telephone: (907) 989-2204; Fax: (907) 989-2233; and Grace Smith, Tribal Representative, Aleutian/Pribilof Islands Association, Inc., 201 E. 3rd Avenue, Anchorage, Alaska 99501; Telephone: (907) 276-2700 or 222-4236; Fax: (907) 279-4351; email: graces@apiai.org.

Nenana Native Association, Nita M. Marks, Youth & Family Services Director, P.O. Box 356, Nenana, AK 99760; Telephone: (907) 832-5269 ext. 225; Fax: (907) 832-1077; and Legal Department, Tanana Chiefs Conference, Inc., 122 First Avenue, Suite 600, Fairbanks, AK 99701; Telephone: (907) 452-8251 ext. 3177; Fax: (907) 459-3953.

New Stuyahok Village, Wassillie Andrew, Village Administrator, P.O. Box 49, New Stuyahok, AK 99636; Telephone: (907) 693-3173; Fax: (907) 693-3179; email: knwvc@starband.net; and Children's Services Program Manager, Bristol Bay Native Association, P.O. Box 310, 1500 Kanakanak Road, Dillingham, AK 99576; Telephone: (907) 842-4139; Fax: (907) 842-4106; email: cnixon@bbna.com

Newhalen Village, Joanne Wassillie, Administrator, and Raymond Wassillie, President, P.O. Box 207, Newhalen, AK 99606-0207; Telephone: (907) 571-1410/1317; Fax: (907) 571-1537; email: newhalentribal@starband.net; and Children's Services Program Manager, Bristol Bay Native Association, P.O. Box 310, 1500 Kanakanak Road, Dillingham, AK 99576; Telephone: (907) 842-4139; Fax: (907) 842-4106; email: cnixon@bbna.com.

Newtok Village, Nick Tom, Jr., Tribal Administrator, P.O. Box 5545, Newtok, AK 99559-5545; Telephone: (907) 237-2314; Fax: (907) 237-2428.

Native Village of Nightmute, Phillip Tulik, Administrative Executive Director, P.O. Box 90021, Nightmute, AK 99690; Telephone: (907) 647-6215; Fax: (907) 647-6112.

Nikolai Village, Peter A. Tony, Tribal Family Youth Specialist, P.O. Box 9105, Nikolai, AK 99691; Telephone: (907) 293-2310; Fax: (907) 293-2481; and Legal Department, Tanana Chiefs Conference, Inc., 122 First Avenue, Suite 600, Fairbanks, AK 99701; Telephone: (907) 452-8251 ext. 3177; Fax: (907) 459-3953.

Native Village of Nikolski, Grace Smith, Aleutian/Pribilof Islands Association, 201 E. 3rd Avenue, Anchorage, AK 99501; Telephone: (907) 276-2700 or 222-4236; Fax: (907) 279-4351; email: graces@apiai.org; and Kathy Dirks, APIA ICWA Representative, Unalaska Wellness Center, P.O. Box 1130, Unalaska, AK 99685; Telephone: (907) 581-2742; Fax: (907) 581-2040.

Ninilchik Village, Michelle Steik, ICWA/CCA Manager, P.O. Box 39444, Ninilchik, AK 99639; Telephone: (907) 567-3313; Fax: (907) 567-3354; email: msteik@ninilchiktribe-nsn.gov.

Native Village of Noatak, Herbert Walton, Administrator, ICWA Program, P.O. Box 89, Noatak, AK 99761-0089; Telephone: (907) 485-2396; Fax: (907) 485-2137; email: herbert.walton@nautaaq.org

Nome Eskimo Community, Belinda Olanna, Social Service Director/ICWA, P.O. Box 1090, Nome, AK 99762-1090; Telephone: (907) 443-2246/9104; Fax: (907) 443-3539/9140; email: bolanna@gci.net.

Nondalton Village, June Tracey, P.O. Box 49, Nondalton, AK 99640-0049; Telephone: (907) 294-2206; Fax: (907) 294-2234; email: nondaltontribe@starband.net; and Children's Services Program Manager, Bristol Bay Native Association, P.O. Box 310, 1500 Kanakanak Road, Dillingham, AK 99576; Telephone: (907) 842-4139; Fax: (907) 842-4106; email: cnixon@bbna.com.

Noorvik Native Community, Nellie Ballot, ICWA Coordinator, P.O. Box 209, Noorvik, AK 99763; Telephone: (907) 636-2144; Fax: (907) 636-2284; email: nballot@noorvik.org.

Northway Village, Crystalena Sam, ICWA Coordinator, P.O. Box 516, Northway, AK 99764; Telephone: (907) 778-2311; Fax: (907) 778-2220.

Native Village of Nuiqsut (A.K.A. Nooiksut), Alberta Ipalook, Tribal Administrator, P.O. Box 169, Nuiqsut, AK, 99789; Telephone: (907) 480-3010; Fax: (907) 480-3009; and Sharon Thompson, Arctic Slope Native Association, Social Services, P.O. Box 1232, Barrow, AK 99723; Telephone: (907) 852-2762; Fax: (907) 852-2105.

Nulato Village, Kathleen Sam, Director of Human Services, P.O. Box 65049, Nulato, AK 99765; Telephone: (907) 898-2329; Fax: (907) 898-2207; and Legal Department, Tanana Chiefs Conference, Inc., 122 First Avenue, Suite 600, Fairbanks, AK 99701; Telephone: (907) 452-8251 ext. 3177; Fax: (907) 459-3953.

Nunakauyarmiut Tribe (formerly, Toksook Bay), Marcella White, P.O. Box 37048; Toksook Bay, AK 99637; Telephone: (907) 427-7114/7615; Fax: (907) 427-7206.

Nunam Iqua (see Sheldon's Point)

Native Village of Nunapitchuk, Eli J. Wassillie, Tribal Administrator, P.O. Box 130, Nunapitchuk, AK 99641-0130; Telephone: (907) 527-5705; Fax: (907) 527-5711; email: ewassillie@avcp.org.

O

Village of Ohogamiut, Nick P. Andrew, Jr., Tribal Administrator, P.O. Box 49, Marshall, AK 99585; Telephone: (907) 679-6517/6598; Fax: (907) 679-6516; email: nandrew@gci.net.

Village of Old Harbor, Lisa Ann Christiansen, P.O. Box 62, Old Harbor, AK 99643-0062; Telephone: (907) 286-2215; Fax: (907) 286-2277.

Orutsararmuit Native Village, (A.K.A. Bethel), Bertha Kinegak-Friday, Social Services Director, and Margaret Chase, P.O. Box 927, Bethel, AK 99559; Telephone: (907) 543-2608; Fax: (907) 543-2639; email: bfriday@nativecouncil.org; mchase@nativecouncil.org.

Oscarville Traditional Village, Alexander Joekay, Administrator, P.O. Box 6129, Napaskiak, AK 99559; Phone: (907) 737-7099; Fax: (907) 737-7429; and Association of Village Council Presidents, ICWA Counsel, P.O. Box 218, Bethel, AK 99559; Phone: (907) 543-7366; Fax: (907) 543-5759.

Native Village of Ouzinkie, Sharon Boskofsky, ICWA Program, and Angeline Campfield and Paul Panamarioff, Administrator, P.O. Box 130, Ouzinkie, AK 99644-0130; Phone: (907) 680-2259/2359; Fax: (907) 680-2214; email: ouzicwa@starband.net.

P

Native Village of Paimiut, Agatha Napoleon, Programs Manager, or Franklin I. Napoleon, P.O. Box 230, Hooper Bay, AK 99604; Phone: (907) 758-4002; Fax: (907) 758-4024.

Pauloff Harbor Village, Grace Smith, Tribal Representative, Aleutian/Pribilof Islands Association, 201 E. 3rd Avenue, Anchorage, AK 99501; Phone: (907) 276-2700 or 222-4236; Fax: (907) 279-4351; email: graces@apiai.org.

Pedro Bay Village, Kevin Jensen, Tribal Administration Support Specialist, P.O. Box 47020, Pedro Bay, AK 99647-7020; Phone: (907) 850-2225; Fax: (907) 850-2221; email: thecouncil@pedrobay.com; and Children's Services Program Manager, Bristol Bay Native Association, P.O. Box 310, 1500 Kanakanak Road, Dillingham, AK 99576; Phone: (907) 842-4139; Fax: (907) 842-4106; email: cnixon@bbna.com.

Native Village of Perryville, Bernice O'Domin, Tribal Children's Service Worker/ICWA Program, P.O. Box 89, Perryville, AK 99648-0089; Phone: (907) 853-2242; Fax: (907) 853-2229 and Children's Services Program Manager, Bristol Bay Native Association, P.O. Box 310, 1500 Kanakanak Road, Dillingham, AK 99576; Phone: (907) 842-4139; Fax: (907) 842-4106; email: cnixon@bbna.com.

Petersburg Indian Association, Pamela Lopez, Tribal & Family Support Worker, P.O. Box 1418, Petersburg, AK 99833; Phone: (907) 772-3636; Fax: (907) 772-3637; email: piageneral@gci.net.

Native Village of Pilot Point, Tribal President, P.O. Box 449, Pilot Point, AK 99649; Phone: (907) 797-2208; Fax: (907) 797-2258 and Children's Services Program Manager, Bristol Bay Native Association, P.O. Box 310, 1500 Kanakanak Road, Dillingham, AK 99576; Phone: (907) 842-4139; Fax: (907) 842-4106; email: cnixon@bbna.com.

Pilot Station Traditional Village, Olga Xavier, ICWA Worker, P.O. Box 5119, Pilot Station, AK 99650-5119; Phone: (907) 549-3550; Fax (907) 549-3551 and Association of Village Council Presidents, ICWA Counsel, P.O. Box 219, Bethel, AK 99559; Phone: (907) 543-7366; Fax: (907) 543-5759.

Native Village of Pitka's Point, Phillip Yupanik, Sr., ICWA Director, P.O. Box 127, St. Mary's, AK 99658; Phone: (907) 438-2551; Fax: (907) 438-2569; email: juneyup@starband.net.

Platinum Traditional Village, Lou Adams, Tribal Administrator or Tribal President, ICWA Program P.O. Box 8, Platinum, AK 99651; Phone: (907) 979-8610; Fax: (907) 979-8178.

Native Village of Point Hope, Daisy Sage, ICWA Program, P.O. Box 109, Point Hope, AK 99766; Phone: (907) 368-2330; Fax: (907) 368-2332.

Native Village of Point Lay, Amos Agnasayga, Box 59031, Pt. Lay, AK 99757; Phone: (907) 833-2575; and Sharon Thompson, Arctic Slope Native Association, Social Services, P.O. Box 1232, Barrow, AK 99723; Phone: (907) 852-2762; Fax: (907) 852-2105.

Native Village of Port Graham, Mary Malchoff, Tribal ICWA Worker, or Patrick Norman, First Chief, P.O. Box 5510, Port Graham, AK 99603; Phone: (907) 284-2227; Fax: (907) 284-2222; email: pnorman@starband.net.

Native Village of Port Heiden, Shannon Matson, Tribal Children Service Worker and Lynn Carlson, Administrative Assistant, 2200 James St., Port Heiden, AK 99549; Phone: (907) 837-2225/2296; Fax: (907) 837-2297; email: smatson211@starband.net; lcarlson79@starband.net; and Children's Services Program Manager, Bristol Bay Native Association, P.O. Box 310, 1500 Kanakanak Road, Dillingham, AK 99576; Phone: (907) 842-4139; Fax: (907) 842-4106; email: cnixon@bbna.com.

Native Village of Port Lions, Jessica Ursin, Tribal Family Service Coordinator, ICWA, P.O. Box 69/2006 Airport Road, Port Lions, AK 99550-0069; Phone: (907) 454-2234; Fax: (907) 454-2434, email: nvopl@starband.net.

Portage Creek Village, Tribal President, P.O. Box PCA, Portage Creek, AK. 99576; Phone: (907) 842-2564; Fax: (907) 842-2564 and Children's Services Program Manager, Bristol Bay Native Association, P.O. Box 310, 1500 Kanakanak Road, Dillingham, AK 99576; Phone: (907) 842-4139; Fax: (907) 842-4106; email: cnixon@bbna.com.

Q

Qagan Tayagungin Tribe of Sand Point Village, Dorothy McCallum, President, Box 447, Sand Point, AK 99661, Phone: (907) 383-5616, Fax: (907) 383-5814, email: qttadmin@arctic.net, and Grace Smith, Tribal Representative, Aleutian/Pribilof Islands Association, 201 E. 3rd. Avenue, Anchorage, AK 99501; Phone: (907) 276-2700 or 222-4236; Fax: (907) 279-4351, email: graces@apiai.org.

Qawalangin Tribe of Unalaska, Margaret Lekanoff, President, and Kathy Dirks, Family Programs Case Worker, P.O. Box 334 Unalaska, AK. 99685; Phone: (907) 581-2920/6574; Fax: (907) 581-3644; email: qtuunga@arctic.net, and Grace Smith, Tribal Representative, Aleutian/Pribilof Islands Association, 201 E. 3rd Avenue, Anchorage, AK 99501; Phone: (907) 276-2700 or 222-4236; Fax: (907) 279-4351, email: graces@apiai.org.

Quinhagak (see Kwinhagak)

R

Rampart Village, Legal Department, Tanana Chiefs Conference, Inc., 122 First Avenue, Suite 600, Fairbanks, AK 99701; Phone: (907) 452-8251 ext. 3177, Fax: (907) 459-3953.

Red Devil Traditional Council, Theodore E. Gordon, Sr., Tribal Administrator, P.O. Box 91, Red Devil, AK 99656; Phone: (907) 447-3223; Fax: (907) 447-3224 and Association of Village Council Presidents, ICWA Counsel, P.O. Box 219, Bethel, AK 99559; Phone: (907) 543-7366; Fax: (907) 543-5759.

Ruby Tribal Council, Laura Vines, Tribal Family & Youth Specialist, P.O. Box 69, Ruby, AK 99768; Phone: (907) 468-4400; Fax: (907) 468-4500 and Legal Department, Tanana Chiefs Conference, Inc., 122 First Avenue, Suite 600, Fairbanks, AK 99701; Phone: (907) 452-8251 ext. 3177; Fax: (907) 459-3953.

Russian Mission (see Iqurmuit Traditional Council)

S

Native Village of Salamatoff, Rita Smagge, Kenaitze Indian Tribe, P.O. Box 988, Kenai, AK 99611; Phone: (907) 283-3633; Fax: (907) 283-3052.

Native Village of Savoonga, Carolyn S. Kava, ICWA Coordinator, P.O. Box 34, Savoonga, AK 99769; Phone: (907) 984-6211; Fax: (907) 984-6027.

Organized Village of Saxman, Lee Wallace, President, and Janelle Hamilton, Social Services/ICWA Family Caseworker, Route 2, Box 2-Saxman, Ketchikan, AK 99901; Phone: (907) 247-2502/225-2518, Fax: (907) 247-2502/2912; email: iragovt@kpunet.net, and jreeve@ccthita.org.

Native Village of Scammon Bay, George H. Smith, Administrator, P.O. Box 110, Scammon Bay, AK 99662; Phone: (907) 558-5425; Fax: (907) 558-5134; email: scammonbay@maniilaq.org and Association of Village Council Presidents, ICWA Counsel, P.O. Box 219, Bethel, AK 99559; Phone: (907) 543-7366; Fax: (907) 543-5759.

Native Village of Selawik, Myrna M. Ticket, ICWA Coordinator, P.O. Box 59, Selawik, AK 99770-0059; Phone: (907) 484-2165 ext.11; Fax: (907) 484-2226; email: myrna.ticket@akuliqaq.org.

Seldovia Village Tribe, Crystal Collier, CEO, Drawer L, Seldovia, AK 99663; Phone: (907) 234-7898 ext. 242; Fax: (907) 234-7865; email: ccollier@svt.org

Shageluk Native Village, Rebecca Wulf, Tribal Administrator, P. O. Box 109, Shageluk, AK 99665, Phone: (907) 473-8239, Fax: (907) 473-8295, email: Rebecca.wulf@tananachiefs.org, and Legal Department, Tanana Chiefs Conference, Inc., 122 First Avenue, Suite 600, Fairbanks, AK 99701; Phone: (907) 452-8251 ext. 3177; Fax: (907) 459-3953.

Native Village of Shaktoolik, Simon Bekoalok, Jr., Tribal Family Coordinator, P.O. Box 100, Shaktoolik, AK 99771; Phone: (907) 955-2444; Fax: (907) 955-2443.

Native Village of Sheldon's Point, (AKA Nunam Iqua), Edward Adams, Sr. President and ICWA/Family Service Specialist, P. O. Box 27, Sheldon Point, AK 99666; Phone: (907) 498-4184/4186; Fax (907) 498-4185 and Association of Village Council Presidents, ICWA Counsel, P.O. Box 219, Bethel, AK 99559; Phone: (907) 543-7366; Fax: (907) 543-5759.

Native Village of Shishmaref, Karla Nayokpuk, Tribal Family Coordinator, P.O. Box 72110, Shishmaref, AK 99772; Phone: (907) 649-3078, Fax: (907) 649-2278, email: karla@kawerak.org.

Shoonaq Tribe of Kodiak, Rebecca Skinner, ICWA Program, 312 W. Marine Way, Kodiak, AK 99615, Phone: (907) 486-4449; Fax: (907) 486-3361.

Native Village of Shungnak, Roy Sun, Tribal Administrator, P. O. Box 64, Shungnak, AK 99773; Phone: (907) 437-2163; Fax: (907) 437-2183; email: rsun@issingnak.org.

Sitka Tribe of Alaska, Priscilla S. Peele, ICWA Case Worker, 456 Katlian St., Sitka, AK 99835; Phone: (907) 747-2669 ext. 14; Fax: (907) 747-3918; email: ppeele@sitkatribe.org.

Skagua (Skagway) Village, Lance A. Twitchell, Tribal President, P. O. Box 1157, Skagway, AK 99840, Phone: (907) 983-4068, Fax: (907) 983-3068, email: ltwitchell@skagwaytraditional.org and Indian Child Welfare Coordinator, Central Council Tlingit and Haida Indian Tribes of Alaska, 320 W. Willoughby, Suite 300, Juneau, AK 99801; Phone: (907) 463-7148; Fax: (907) 463-7343; email: mdoyle@ccthita.org.

Village of Sleetmute, Diwakar Vadapalli, ICWA Program, P.O. Box 109, Sleetmute, AK 99668; Phone: (907) 449-4205; Fax: (907) 449-4203, email: stcadmin@starband.net.

Village of Solomon, Wally Johnson, ICWA Coordinator, P.O. Box 2053, Nome, AK 99762, Phone: (907) 443-4985; Fax: (907) 443-5189.

South Naknek Village, Lorianne Rawson, Tribal Children's Service Worker, P.O. Box 70029, South Naknek, AK 99670; Phone: (907) 246-8614, Fax: (907) 246-8613; email: southnaknek@starband.net, and Children's Services Program Manager, Bristol Bay Native Association, P.O. Box 310, 1500 Kanakanak Road, Dillingham, AK 99576; Phone: (907) 842-4139; Fax: (907) 842-4106; email: cnixon@bbna.com.

St. George Island, Julie Meredith, Tribal Administrator, P.O. Box 940, St. George Island, AK 99591; Phone: (907) 859-2205; Fax: (907) 859-2242; email: stgcouncil@starband.net and Grace Smith, Tribal Representative, Aleutian/Pribilof Islands Association, 201 E. 3rd Avenue, Anchorage, AK 99501; Phone: (907) 276-2700 or 222-4236; Fax: (907) 279-4351, email: graces@apiai.org.

St. Mary's (See Algaaciq)

Native Village of St. Michael, Diane Thompson, Tribal Family Coordinator, P.O. Box 59050, St. Michael, AK 99659; Phone: (907) 923-2546; Fax: (907) 923-2474.

St. Paul Island, Grace Smith, Tribal Representative, Aleutian/Pribilof Islands Association, 201 E. 3rd Avenue, Anchorage, AK 99501; Phone: (907) 276-2700 or 222-4236; Fax: (907) 279-4351, email: graces@apiai.org and Maxim Buterin, Family Programs Case Worker, P.O. Box 31, St. Paul, AK 99660, Phone: (907) 546-3224.

Stebbins Community Association, Becky Odinzoff, Tribal Family Coordinator, P.O. Box 2, Stebbins, AK 99761; Phone: (907) 934-2334; Fax: (907) 934-2474.

Native Village of Stevens, Cheryl Mayo Kriska, ICWA Worker, P. O. Box 74016, Stevens Village, AK 99774, Phone: (907) 478-7288, Fax: (907) 478-7229, and Legal Department, Tanana Chiefs Conference, Inc., 122 First Avenue, Suite 600, Fairbanks, AK 99701; Phone: (907) 452-8251 ext. 3177; Fax: (907) 459-3953.

Village of Stony River, Thomas Willis, President or Mary Willis, Administrative/Secretary; P.O. Box SRV, Birch Road, Stony River, AK 99557; Phone: (907) 537-3253, Fax: (907) 537-3254; and Association of Village Council Presidents, ICWA Counsel, P.O. Box 219, Bethel, AK 99559; Phone: (907) 543-7366; Fax: (907) 543-5759.

T

Takotna Village, Vera Lynn Goods, First Chief, and Jan Newton, ICWA Worker, General Delivery, Takotna, AK 99675; Phone: (907) 298-2212; Fax: (907) 298-2314 and Legal Department, Tanana Chiefs Conference, Inc., 122 First Avenue, Suite 600, Fairbanks, AK 99701; Phone: (907) 452-8251 ext. 3177; Fax: (907) 459-3953.

Native Village of Tanacross, Jerry Isaac, President and Debbie Thomas, and Martha S. Isaac, ICWA Program, P.O. Box 76009, Tanacross, AK 99776; Phone: (907) 883-5024; Fax: (907) 883-4497.

Native Village of Tanana, Julie M. Roberts-Hyslop, Executive Director, Donna M. Folger, Social Worker, or Faith M. Peters, Social Worker, P.O. Box 130, Tanana, AK 99777; Phone: (907) 366-7154/7160; Fax: (907) 366-7229/7195.

Native Village of Tatitlek, Laurinda Vlasoff, ICWA Worker, P.O. Box 171, Tatitlek, AK 99677; Phone: (907) 325-2313; Fax: (907) 325-2298.

Native Village of Tazlina, Marce Simeon, ICWA Coordinator, P.O. Box 87, Glennallen, AK 99588; Phone: (907) 822-4375; Fax: (907) 822-5865, email: marce@cvinternet.net.

Telida Village, Legal Department, Tanana Chiefs Conference, Inc., 122 First Avenue, Suite 600, Fairbanks, AK 99701; Phone: (907) 452-8251 ext. 3177, Fax: (907) 459-3953.

Native Village of Teller, Dolly Kugzruk, Tribal Family Coordinator, P.O. Box 629, Teller, AK 99778; Phone: (907) 642-2185; Fax: (907) 642-3000.

Native Village of Tetlin, Nettie J. Warbelow, Box 93 Tok, AK 99780; Phone: (907) 883-3676; Fax: (907) 883-3034 and Legal Department, Tanana Chiefs Conference, Inc., 122 First Avenue, Suite 600, Fairbanks, AK 99701; Phone: (907) 452-8251 ext. 3177; Fax: (907) 459-3953.

Tlingit & Haida Indian Tribes of Alaska (See Central Council Tlingit and Haida)

Traditional Village of Togiak, Tribal President or Shannon Johnson-Nanalook, Tribal Children's Service Worker, P.O. Box 10, Togiak, AK 99678; Phone: (907) 493-5431; Fax: (907) 493-5734, and Children's Services Program Manager, Bristol Bay Native Association, P.O. Box 310,1500 Kanakanak Road, Dillingham, AK 99576; Phone: (907) 842-4139; Fax: (907) 842-4106; email: cnixon@bbna.com.

Toksook Bay (See Nunakauyarmiut Tribe)

Tuluksak Native Community, Margaret Andrew, ICWA Program, P.O. Box 95, Tuluksak, AK 99679-0095; Phone: (907) 695-6902; Fax: (907) 695-6932.

Native Village of Tununak, George B. Hooper, Sr., Chairman, P.O. Box 77, Tununak, AK 99681-0077; Phone: (907) 652-6527; Fax: (907) 652-6011; email: Tununak@starband.net, and Association of Village Council Presidents, ICWA Counsel, P. O. Box 219, Bethel, AK 99559; Phone: (907) 543-7366; Fax: (907) 543-5759.

Tuntutuliak Traditional Council, Carl J. Andrew, Tribal Administrator, P.O. Box 8086, Tuntutuliak, AK 99680; Phone: (907) 256-2128; Fax: (907) 256-2080; and Association of Village Council Presidents, ICWA Counsel, P.O. Box 219, Bethel, AK 99559; Phone: (907) 543-7366; Fax: (907) 543-5759.

Twin Hills Village Council, Martha Foster, Tribal Administrator, P.O. Box TWA, Twin Hills, AK 99576; Phone: (907) 525-4821; Fax: (907) 525-4822; email: maalu@starband.net or twinhills@aitc.org and Children's Services Program Manager, Bristol Bay Native Association, P.O. Box 310,1500 Kanakanak Road, Dillingham, AK 99576; Phone: (907) 842-4139; Fax: (907) 842-4106; email: cnixon@bbna.com

The Native Village of Tyonek, Peter Merryman, President, P.O. Box 82009, Tyonek, AK 99682; Phone: (907) 583-2771; Fax: (907) 583-2442; email: tyonek@aol.com and Rose Chuitt, ICWA Coordinator, 1689 C Street, Ste. 211, Anchorage, AK 99501; Phone: (907) 277-1706; Fax: (907) 277-1756.

U

Ugashik Village, Roy S. Matsuno, Tribal Administrator, and Fred Matsuno, President, 206 E. Fireweed Lane, #204, Anchorage, AK 99503; Phone: (907) 338-7611; Fax: (907) 338-7659; email: ugashik@alaska.net and Children's Services Program Manager, Bristol Bay Native Association, P.O. Box 310, 1500 Kanakanak Road, Dillingham, AK 99576; Phone: (907) 842-4139; Fax: (907) 842-4106; email: cnixon@bbna.com.

Umkumiut Native Village, Andronik Kashatok, Tribal Administrator, P.O. Box 90062, Nightmute, AK. 99690; Phone: (907) 647-6145; Fax: (907) 647-6146.

Native Village of Unalakleet, Veronica Ivanoff, Tribal Family Coordinator P.O. Box 357, Unalakleet, AK 99684; Phone: 907-624-3527; Fax: (907) 624-5104.

Unalaska (See Qawalangin Tribe of Unalaska)

Native Village of Unga, Amy Foster, Administrator, P.O. Box 508, Sand Point, AK 99661, Phone: (907) 383-2415, Fax: (907) 383-5553; e-mail: ungatribe@arctic.net and Grace Smith, Tribal Representative, Aleutian/Pribilof Islands Association, Social Services, 201 E. 3rd Avenue, Anchorage, AK 99501; Phone: (907) 276-2700 or 222-4236; Fax: (907) 279-4351, e-mail: graces@apiai.org.

Native Village of Upper Kalskag (see Kalskag)

V

Native Village of Venetie Tribal Government, Donna M. Erick, Tribal Administrator, and Nena C. Wilson, ICWA Secretary, P.O. Box 81080, Venetie AK 99781; Phone: (907) 849-8165/8378; Fax: (907) 849-8097 and Legal Department, Tanana Chiefs Conference, Inc., 122 First Avenue, Suite 600, Fairbanks, AK 99701; Phone: (907) 452-8251 ext. 3177; Fax: (907) 459-3953.

W

Village of Wainwright, Sharon Thompson, ICWA Coordinator, Arctic Slope Native Association, Social Services, P.O. Box 1232, Barrow, AK 99723; (907) 852-2762; Fax: (907) 852-2105.

Native Village of Wales, Joanne Keyes, Tribal Family Services Coordinator, P. O. Box 549, Wales, AK 99783; Phone: (907) 664-2185; Fax: (907) 664-3062/2200, e-mail: cfs.waa@kawerak.org or kareno@kawerak.org.

Native Village of White Mountain, Trisha Gray, Tribal Family Coordinator, P. O. Box 45, White Mountain, AK 99784; Phone: (907) 638-2008; Fax: (907) 638-2009.

Woody Island (See Leisnoi Village)

Wrangell Cooperative Association, Wilma Stokes, President, P.O. Box 868, Wrangell, AK 99929; e-mail: walkerak@aptalaska.net and Elizabeth Newman, Family Counselor II, P.O. Box 1198, Wrangell, AK 99929; Phone: (907) 874-3481/3482; Fax: (907) 874-2918/2982; e-mail: bnewman@ccthita.org, or walkerak@aptalaska.net.

Y

Yakutat Tlingit Tribe, Karen Ries, Family Service Director, P.O. Box 418, Yakutat, AK 99689; Phone: (907) 784-3238 ext. 231, Fax: (907) 784-3664.

Eastern Oklahoma Region:

Jeanette Hanna, Regional Director: P.O. Box 8002, Muskogee, OK 74401; Phone: (918) 781-4600; Fax (918) 781-4604.

Alabama—Quassarte Tribal Town, Tarpie Yargee, Chief, P.O. Box 187, Wetumka, OK 74883; Phone: (405) 452-3987.

C

Cherokee Nation of Oklahoma, Chadwick Smith, Principal Chief, P.O. Box 948, Tahlequah, OK 74465; Phone: (918) 456-0671.

The Chickasaw Nation, Bill Anoatubby, Governor, P.O. Box 1548, Ada, OK 74821; Phone: (580) 436-2603.

Choctaw Nation of Oklahoma, Gregory E. Pyle, Chief, P.O. Drawer 1210, Durant, OK 74702-1210; Phone: (580) 924-8280.

D

Delaware Tribe of Indians, Larry Jo Brooks, Chief, 220 NW Virginia Ave., Bartlesville, OK 74003; Phone: (918) 336-5272.

E

Eastern Shawnee Tribe of Oklahoma, Charles D. Enyart, Chief, P.O. Box 350, Seneca, MO 64865; Phone: (918) 666-2435.

K

Kialegee Tribal Town, Evelyn Bucktrot, Town King, P.O. Box 332, Wetumka, OK 74883; Phone: (918) 452-3262.

M

Miami Tribe of Oklahoma, Floyd E. Leonard, Chief, P.O. Box 1326, Miami, OK 74355: Phone: (918) 542-1445.

Modoc Tribe of Oklahoma, Bill Gene Follis, Chief, 515 G Southeast, Miami, OK 74354; Phone: (918) 542-1190.

The Muscogee (Creek) Nation, A. D. Ellis, Principal Chief, P.O. Box 580, Okmulgee, OK 74447

O

Osage Tribe, Jim Roan Gray, Principal Chief, P.O. Box 779, Pawhuska, OK 74056; Phone: (918) 287-1085.

Ottawa Tribe of Oklahoma, Charles Todd, Chief, P.O. Box 110, Miami, OK 74355, Phone: (918) 540-1536.

Peoria Tribe of Indians of Oklahoma, John P. Froman, Chief, P.O. Box 1527, Miami, OK 74355; Phone: (918) 540-2535.

Quapaw Tribe of Oklahoma, John Berrey, Chairperson, P.O. Box 765, Quapaw, OK 74363; Phone: (918) 542-1853.

Seminole Nation of Oklahoma, Kenneth Chambers, Principal Chief, P.O. Box 1498, Wewoka, OK 74884, Phone: (405) 257-6287

Seneca-Cayuga Tribe of Oklahoma, LeRoy Howard, Principal Chief, P.O. Box 1283, Miami, OK 74355, Phone: (918) 542-6609.

T

Thlopthlocco Tribal Town, Louis McGertt, Town King, P.O. Box 188, Okemah, OK 74859; Phone: (918) 623-2620.

U

United Keetoowah Band of Cherokee Indians, Dallas Proctor, Chief, P.O. Box 746, Tahlequah, OK 74465; Phone: (918) 431-1818.

W

Wyandotte Tribe of Oklahoma, Leaford Bearskin, Chief, P.O. Box 250, Wyandotte, OK 74370; Phone: (918) 678-2297/2298.

Eastern Region

Franklin Keel, Regional Director, 711 Stewarts Ferry Pike, Nashville, TN 37214; Phone: (615) 467-1700; Fax: (615) 467-1701.

Gloria York, Regional Social Worker, 711 Stewarts Ferry Pike, Nashville, TN 37214; Phone: (615) 467-2929; Fax: (615) 467-1579.

Catherine Webster, Program Assistant, 711 Stewarts Ferry Pike, Nashville, TN 37214 Phone: (615) 467-1575; Fax: (615) 467-1579.

A

Aroostook Band of Micmac Indians, Ms. Rosella Silliboy, ICWA Coordinator, 7 Northern Road, Presque Isle, Maine 04769; Phone: (207) 764-1972; Fax: (207) 764-7667.

C

Catawba Indian Nation of South Carolina, Melissa Funderburk, Director Social Services, P.O. Box 188, Catawba, South Carolina 29704; Phone: (803) 366-4792; Fax: (803) 327-4853.

Cayuga Nation of New York, Anita Thompson, Child Welfare Worker, P.O. Box 11, Versailles, New York 14168; Phone: (716) 532-4847; Fax: (716) 532-5417.

Chitimacha Tribe of Louisiana, Karen Matthews, Human Services Director, P.O. Box 661, Charenton, Louisiana 70523; Phone: (337) 923-7000; Fax: (337) 923-2475.

Coushatta Tribe of Louisiana, Joan Fullilove, Social Services Director, P.O. Box 967, Elton, Louisiana 70532; Phone: (337) 584-1435; Fax: (337) 584-1474.

E

Eastern Band of Cherokee Indians, Barbara Jones, Director Family Support Services, 15 Emma Taylor Road, P.O. Box 507, Cherokee, North Carolina 28719; Phone: (828) 497-6092; Fax: (828) 497-3322.

H

Houlton Band of Maliseet Indians, Betsy Tannian, Director, ICWA Program, 13-2 Clover Court, Houlton, Maine 04730; Phone: (207) 532-7260; Fax: (207) 532-7287.

J

Jena Band of Choctaw Indians, Mona Maxwell, Director, Social Services, P.O. Box 14, Jena, Louisiana 71342, Phone: (318) 992-0136; Fax: (318) 992-6412.

M

Mashantucket Pequot Tribal Nation, Dawn Bradley, Child Protective Services, P.O. Box 3313, Mashantucket, Connecticut 06338; Phone: (860) 396-2142; Fax: (860) 396-2144.

Miccosukee Tribe of Indians of Florida, Social Service Program, P.O. Box 440021, Miami, Florida 33144; Phone: (305) 223-8380 x 2267; Fax: (305) 223-1011.

Mississippi Band of Choctaw Indians, Maurice Calistro, Director, P.O. Box 6050, Choctaw, Mississippi 39350; Phone: (601) 650-1741; Fax: (601) 656-8817.

Mohegan Indian Tribe, Irene Miller, APRN, Director Family Services, 5 Crow Hill Road, Uncasville, Connecticut 06382, Phone: (860) 862-6201; Fax (860) 862-6122.

N

Narragansett Indian Tribe, Wenonah Harris, Director, Child Advocate, Tribal Child and Family Services, 4533 S. County Trail, Charlestown, Rhode Island 02813; Phone: (401) 364-1265 ext. 17, Fax: (401) 364-6427.

O

Oneida Indian Nation, Elizabeth Hatch, Pathways Program Coordinator, 5000 Skenondoa Way, Oneida, New York 13421; Phone: (315) 829-8335; Fax: (315) 829-8392.

Onondaga Nation of New York, Council of Chiefs, P.O. Box 85, Nedrow, New York 13120; Phone: (315) 469-1875; Fax: (315) 492-4822.

P

Passamaquoddy Tribe of Maine, Jeannette Parker, Child Welfare Coordinator, Indian Township Reservation, P.O. Box 97, Princeton, Maine 04668; Phone: (207) 796-5079; Fax: (207) 796-2218.

Passamaquoddy Tribe of Maine, Molly Newell, Child Welfare Director, Pleasant Point Reservation, P.O. Box 343, Perry, Maine 04667; Phone: (207) 853-2600; Fax: (207) 853-2405.

Penobscot Indian Nation of Maine, Erlene Paul, Human Service Director, 9 Sarah's Spring Road, Indian Island, Maine 04468; Phone: (207) 817-7492, extension 7492; Fax: (207) 827-2937.

Poarch Band of Creek Indians, Keesha O'Barr, Social Services Coordinator, Department of Social & Human Services, 5811 Jack Springs Road, Atmore, Alabama 36502; Phone: (251) 368-9136 ext, 2600; Fax: (251) 368-0828.

S

Saint Regis Band of Mohawk Indians, Rhonda Mitchell, ICWA Program Coordinator, 412 State, Route 37, Hogansburg, New York 13655; Phone: (518) 358-4516; Fax: (518) 358-9258.

Seminole Tribe of Florida Family Services Program, Theodore Nelson, LCSW, 3006 Josie Billie Avenue, Hollywood, Florida 33024; Phone: (954) 965-1314; Fax (954) 965-1304.

Seneca Nation of Indians, Chanda Grey, ICWA Representative, Child and Family Services, P.O. Box 500, Salamanca, New York 14779; Phone: (716) 945-5894 x 3231; Fax: (716) 945-7881.

T

Tonawanda Band of Senecas, Council of Chiefs, 7027 Meadville Road, Basom, New York 14013; Phone: (716) 542-4244; Fax: (716) 542-4244.

Tunica-Biloxi Indian Tribe of Louisiana, Social Service Director, P.O. Box 1589, Marksville, Louisiana 71351; Phone: (318) 253-5100; Fax: (318) 253-9791.

Tuscarora Nation of New York, Supervisor, Community Health Worker, 2015 Mount Hope Road, Lewistown, New York 14092; Phone: (716) 297-0598, Fax (716) 297-7046.

W

Wampanoag Tribe of Gay Head (Aquinnah), Bonnie Chalifoux, Director, Human Services, 20 Black Brook Road, Aquinnah, Massachusetts 02535; Phone: (508) 645-9265 x 159; Fax (508) 645-2755.

Great Plains Region:

Mr. William Benjamin, Regional Director, 115 4th Avenue, S.E., Aberdeen, SD 57401; Phone: (605) 226-7351; Fax: (605) 226-7627. (Mr. Benjamin is the Regional Director, not Acting Regional Director)

Cindy Ross & Peggy Davis, Social Workers, 115 4th Avenue, S.E., Aberdeen, SD 57401; Phone: (605) 226-7351; Fax: (605) 226-7627.

C

Cheyenne River Sioux Tribe, Diane Garreaux, Acting ICWA Director, Cheyenne River Sioux Tribe, P.O. Box 747, Eagle Butte, SD 57625; Phone: (605) 964-6460; Fax: (605) 964-6463.

Crow Creek Sioux Tribe, Dave Valandra, ICWA Director, Crow Creek Sioux Tribe, P.O. Box 50, Fort Thompson, SD 57339; Phone: (605) 245-2322; Fax: (605) 245-2844.

F

Flandreau Santee Sioux Tribe, Guy Zephier, ICWA Administrator, Flandreau Santee Sioux Tribal Social Services, P.O. Box 283, Flandreau, SD 57028; Phone: (605) 997-5055; Fax: (605) 997-5145.

L

Lower Brule Sioux Tribe, Greg Miller, ICWA Director, Lower Brule Sioux Tribe, P.O. Box 244, Lower Brule, SD 57548; Phone: (605) 473-5584; Fax: (605) 473-9268.

O

Oglala Sioux Tribe, Marie Fox Belly, ICWA Administrator, Oglala Sioux Tribe-ONTRAC, P.O. Box 148, Pine Ridge, SD 57770; Phone: (605) 856-5805; Fax: (605) 856-5168.

Omaha Tribe of Nebraska, Loretta Marr, ICWA Director, Omaha Tribe of Nebraska, Child Protection Services, P.O. Box 429, Macy, NE 68039; Phone: (402) 837-5261; Fax: (402) 837-5262.

P

Ponca Tribe of Nebraska, Chris Webber, Director, ICWA Program, Ponca Tribe of Nebraska Social Services, 201 Miller Avenue, Norfolk, NE 68701; Phone: (712) 347-6781; Fax: (712) 347-6792.

R

Rosebud Sioux Tribe, Shirley Big Eagle, ICWA Specialist, RST ICWA Program, P.O. Box 609, Mission, SD 57555; Phone: (605) 856-5270; Fax: (605) 856-5168.

S

Santee Sioux Nation, Jerry Denney, ICWA Specialist, Santee Sioux Nation, Dakota Tiwahe Social Services Program, Route 2, Box 5191, Niobrara, NE 68760; Phone: (402) 857-2342; Fax: (402) 857-2361.

Sisseton-Wahpeton Sioux Tribe, Evelyn Pilcher, ICWA Director, Sisseton-Wahpeton Sioux Tribe, P.O. Box 509, Agency Village, SD 57262; Phone: (605) 698-3992; Fax: (605) 698-3999.

Spirit Lake (formerly Devils Lake) Sioux Tribe, Frank Myrick, ICWA Director, Spirit Lake Tribal Social Services, P.O. Box 356, Fort Totten, ND 58335; Phone: (701) 766-4855; Fax: (701) 766-4273.

Standing Rock Sioux Tribe, Beverly Iron Shield, ICWA Specialist, Standing Rock Sioux Tribe, Child Welfare/Social Services, P.O. Box 640, Fort Yates, ND 58538; Phone: (701) 854-3431; Fax: (701) 854-2119.

T

Three Affiliated Tribes, Jolyn Foote, ICWA Specialist, Three Affiliated Tribes, 404 Frontage Drive, New Town, ND 58763; Phone: (701) 627-4781; Fax: (701) 627-5550.

Turtle Mountain Band of Chippewa Indians, Marilyn Poitra, ICWA Coordinator, Turtle Mt. Band of Chippewa Indians, Child Welfare and Family Services, P.O. Box 900, Belcourt, ND 58316; Phone: (701) 477-5688; Fax: (701) 477-5797.

W

Winnebago Tribe of Nebraska, Celeste Honomichl, ICWA Specialist, Winnebago Tribe of Nebraska, Child and Family Services, P.O. Box 723, Winnebago, NE 68071; Phone: (402) 878-2447; Fax: (402) 878-2228.

Y

Yankton Sioux Tribe, Raymond Cournoyer, ICWA Director, Yankton Agency, P.O. Box 248, Marty, SD 57361; Phone: (605) 384-3641.

Midwest Region

Terry Virden, Regional Director, One Federal Drive, Room 550, Fort Snelling, MN 55111-4007; Phone: (612) 713-4400; Fax: (612) 713-4401.

Rosalie Clark, Regional Social Worker, One Federal Drive, Room 550, Fort Snelling, MN 55111-4007; Phone: (612) 713-4400, extension 1071; Fax: (612) 713-4439.

B

Bad River Band of Lake Superior Chippewa Indians of Wisconsin, Catherine Blanchard, ICWA Coordinator, P.O. Box 55, Odanah, WI 54861; Phone: (715) 682-7136.

Bay Mills Indian Community of Michigan, Cheryl Baragwanath, ICWA Worker, 12124 W. Lakeshore Drive, Brimley, MI 49715; Phone: (906) 248-3204.

Boise Fort Reservation Business Committee, Yvonne King, ICWA Director, P.O. Box 16, Nett Lake, MN 55772; Phone: (218) 757-3295.

F

Fond du Lac Reservation Business Committee, Julia Jaakola, Social Services Coordinator, 1720 Big Lake Road, Cloquet, MN 55720; Phone: (218) 879-1227.

Forest County Potawatomi Community of Wisconsin, Karen Ackley, ICWA Coordinator, P.O. Box 340, Crandon, WI 54520; Phone: (715) 478-7329.

G

Grand Portage Reservation Grand Portage Human Services, P.O. Box 428, Grand Portage, MN 55604; Phone: (218) 475-2453.

Grand Traverse Band of Ottawa and Chippewa Indians of Michigan, Dr. Vincent Tookenay, Health Administrator, 2605 NW Bayshore Drive, Suttons Bay, MI 49682; Phone: (231) 271-7477; Fax: (231) 271-7806.

H

Hannahville Indian Community of Michigan, ICWA Worker, N14911 Hannahville B1 Road, Wilson, MI 49896-9728; Phone: (906) 466-9320.

Ho-Chunk Nation, ICWA Coordinator, P.O. Box 667, Black River Falls, WI 54615; Phone: (715) 284-2622.

Huron Potawatomi, Inc., Gilbert Holliday, Chairperson, 2221-1.5 Mile Road, Fulton, MI 49052; Phone: (616) 729-5151.

K

Keweenaw Bay Indian (Chippewa) Community of the L'Anse Reservation of Michigan, Judy Heath, TSS Director, 107 Beartown Road, Baraga, MI 49908; Phone: (906) 353-6623, Ext 4212.

L

Lac Courte Oreilles Band of Lake Superior Chippewa Indians of Wisconsin, Linda Hollen, Tribal Social Services Director, 13394 W. Trepania Road, Building #1, Hayward, WI 54843; Phone: (715) 634-8934.

Lac du Flambeau Band of Lake Superior Chippewa Indians of Wisconsin, Laura Kuehn, ICWA Director, P.O. Box 67, Lac du Flambeau, WI 54538; Phone: (715) 588-1511.

Lac Vieux Desert Band of Lake Superior Chippewa Indians of Michigan, Robert White, ICWA Coordinator, P.O. Box 249—Choate Road, Watersmeet, MI 49969; Phone: (906) 358-4940.

Leech Lake Band of Ojibwe, Rose Robinson, I.C.W.A. Coordinator/Human Services Director, 115 Sixth Street NW, Suite E. Cass Lake, MN 56633; Phone: (218) 335-8270; Fax: (218) 335-8352.

Little River Band of Ottawa Indians, Inc., Delsey Teado, ICWA Specialist, 310 Ninth Street, Manistee, MI 49660; Phone: (213) 398-6609.

Little Traverse Bay Band of Odawa Indians, Angeline Woodin, Human Services Director, 7500 Odawa Circle, Harbor Springs, MI 49740; Phone: (231) 242-1400.

Lower Sioux Indian Community of Minnesota, Angie Okeefe, TSS Director, 39527 Res Highway, P.O. Box 308, Morton, MN 56270-9801; Phone: (507) 697-9108.

M

Match-E-B-Nash-She-Wish Band of Potawatomi Indians of Michigan, ICWA Coordinator, P.O. Box 218, 1743 142nd Avenue, W 2908 Tribal Office Loop, Dorr, MI 49323; Phone: (616) 681-8830.

Menominee Indian Tribe of Wisconsin, Mary Husby, Social Services Director, P.O. Box 910, Keshena, WI 54135-0910; Phone: (715) 799-5161.

Mille Lacs Reservation Business Committee, ICWA Coordinator, 43408 Oodana Drive, Onamia, MN 56359; Phone: (320) 532-4139.

Minnesota Chippewa Tribe of Minnesota, Adrienne Adkins, Human Services Director, P.O. Box 217, Cass Lake, MN 56633; Phone: (218) 335-8585.

O

Oneida Tribe of Indians of Wisconsin, ICWA Program, P.O. Box 365, Oneida, WI 54155; Phone: (920) 869-2214.

P

Pokagon Band of Potawatomi Indians of Michigan, Bill Holmes, TSS Director, 58620 Sink Road, Dowagiac, MI 49047; Phone: (269) 782-4300.

Prairie Island Indian Community Mdewakanton Dakota Sioux of Minnesota, JoDee Gamst, Director/CWO, 5636 Sturgeon Lake Road, Welch, MN 55089, Phone: (651) 385-4185 or 1-800-554-5473; Fax: (651) 385-4183.

R

Red Cliff Band of Lake Superior Chippewa Indians of Wisconsin, Pam Burningham, ICWA Director, 88385 Pike Road, Highway 13, Bayfield, WI 54814; Phone: (715) 779-3747, Ext 18.

Red Lake Band of Chippewa Indians, Ramona Desjarlait, TSS Director, Box 427, Red Lake, MN 56671; Phone: (218) 679-2122.

S

Sac & Fox Tribe of the Mississippi in Iowa, ICWA Coordinator, P.O. Box 245, Tamar IA 52339; Phone: (641) 484-4444.

Saginaw Chippewa Indians of MI, Kim Compton, TSS Director, 7070 East Broadway Road, Mt. Pleasant, MI 48858; Phone: (989) 775-4000.

Sault Ste. Marie Tribe of Chippewa Indians of Michigan, ICWA Coordinator, 523 Ashmun Street, Sault Ste. Marie, MI 49783; Phone: (906) 632-5210.

Shakopee Mdewakanton Sioux Community of Minnesota, Kim Goetzinger, TSS Director, 2330 Sioux Trail NW, Prior Lake, MN 55372; Phone: (952) 445-6165.

Sokaogon Chippewa (Mole Lake) Community of Wisconsin, Angela Charbarneau, ICW Worker, 3051 Sand Lake Road, Crandon, WI 54520; Phone: (715) 478-2520. Fax: (715) 478-7674

St. Croix Chippewa Indians of Wisconsin, Heather Condette, ICWA Coordinator, P.O. Box 45287, Hertel, WI 54845; Phone: (715) 349-2195.

Stockbridge-Munsee Community of Wisconsin, Natalie Young, ICWA Coordinator, N8476 Mo He Con Nuck Road, Bowler, WI 54416; Phone: (715) 793-4580.

U

Upper Sioux Community of Minnesota, Ron Leith, ICWA Director, P.O. Box 147, Granite Falls, MN 56241-0147; Phone: (320) 564-4900.

W

White Earth Reservation Business Committee, Jeri Jasken, ICWA Coordinator, P.O. Box 70, ICW, Naytahwaush, MN 56566; Phone: (218) 935-5554.

Navajo Region:

Vivian Yazza, M.S.W., L.I.S.W., Regional Social Worker, P.O. Box 1060, 301 West Hill Street, Gallup New Mexico, 87305-1060; Phone: (505) 863-8215; Fax: (505) 863-8292.

Northwest Region:

Stanley Speaks, Regional Director, 911 NE 11th Avenue, Portland, OR 97232; Phone: (503) 231-6702; Fax: (503) 231-2201.

Stella Charles, Regional Social Worker, 911 NE 11th Avenue, Portland, OR 97232; Phone: (503) 231-6785; Fax: (503) 231-6731.

B

Burns Paiute Tribe, Phyllis Harrington, ICWA Contact, H.C. 71, 100 Pasigo Street, Burns, OR 97720; Phone: (541) 573-7312, extension 221; Fax: (541) 573-4217.

C

Chehalis Business Council, Nancy Dufraine, ICWA Contact, P.O. Box 536, Oakville, WA 98568-9616; Phone: (360) 273-5911; Fax: (360) 273-5914.

Colville Business Council, ICWA, P.O. Box 150, Nespelem, WA 99155-011; Phone: (509) 634-2200; Fax: (509) 634-4116.

Coeur d'Alene Tribal Council, ICWA, 850 A St., Box 408, Plummer, ID 83851-0408; Phone: (208) 686-1800; Fax: (208) 686-8813.

Confederated Salish & Kootenai Tribes, Beverly Swaney, ICWA Contact, Box 278, Pablo, MT 59855; Phone: (406) 675-2700; Fax: (406) 675-2749.

Confederated Tribes of Coos, Lower Umpqua & Siuslaw Indians, Tom Long, ICWA Specialist, P.O. Box 3279, Coos Bay, OR 97420; Phone: (541) 888-3012; Fax: (541) 888-1027.

Confederated Tribes of Grand Ronde Community of Oregon, Dana Ainam, ICWA Contact, 9615 Grand Ronde Road, Grand Ronde, OR 97347-0038; Phone: (503) 879-2034; Fax: (503) 879-2142.

Confederated Tribes of the Umatilla Indian Reservation, Attorney General, Department of Justice, ICWA, P.O. Box 638, Pendleton, OR 97801; Phone: (541) 966-2030; Fax: (541) 278-7462.

Coquille Indian Tribe, Wayne Grant, ICWA Contact, P.O. Box 3190, Coos Bay, OR 97420; Phone: (541) 888-9494; Fax: (541) 888-0673.

Cow Creek Band of Umpqua Tribe of Indians, Rhonda Malone, ICWA Contact, 2371 NE Stephens, Suite 100, Roseburg, OR 97470-1338; Phone: (541) 672-9405; Fax: (541) 673-0432.

Cowlitz Indian Tribe, Carolee Morris, ICWA Director, P.O. Box 2547, Longview, WA 98632-8594; Phone: (360) 577-8140; Fax: (360) 577-7432.

H

Hoh Tribal Business Committee, Ruth King, ICWA Contact, 2464 Lower Hoh Road, Forks, WA 98331; Phone: (360) 374-6582; Fax: (360) 374-6549.

J

Jamestown Skallam Tribal Council, Liz Mueller, ICWA Specialist, 1033 Old Blyn Hwy, Sequim, WA 98382; Phone: (360) 681-4628; Fax: (360) 681-7288.

K

Kalispel Tribe of Indians, Sandra Kubu, ICWA Coordinator, P.O. Box 327, USK, WA 99180; Phone: (509) 445-1762, (509) 445-1682; Fax: (509) 445-1650.

Klamath Tribe, Morris Blakey, ICWA Specialist, P.O. Box 436, Chiloquin, OR 97624; Phone: (541) 783-2219; Fax: (541) 783-3685.

Kootenai Tribal Council, ICWA, P.O. Box 1269, Bonners Ferry, ID 83805-1269; Phone: (208) 267-3519; Fax: (208) 267-2960.

L

Lower Elwha Tribal Community Council, Patricia Elofson, ICWA Contact, 2851 Lower Elwha Road, Port Angeles, WA 98363-9518; Phone: (360) 452-8471; Fax: (360) 452-3428.

Lummi Tribe of the Lummi Reservation, Kim Goes Behind, ICWA Contact, 1790 Bayon Road, Bellingham, WA 98225; Phone: (360) 738-0848; Fax: (360) 738-0068.

M

Makah Indian Tribal Council, Vickie Carlson, ICWA Caseworker, Makah Family Services, P.O. Box 115, Neah Bay, WA 98357-0115, mtcicwa@centurytel.net; Phone: (360) 645-3257; Fax: (360) 645-2806.

Metlakatla Indian Community, Karen Blandov-Thompson, ICWA Contact, P.O. Box 8, Metlakatla, AK 99926-0008; Phone: (907) 886-6911; Fax: (907) 886-6913.

Muckleshoot Indian Tribe, Sharon Hamilton, ICWA Specialist, 39015 172nd Avenue, SE, Auburn, WA 98092; Phone: (253) 939-3311; Fax: (253) 939-5311

N

Nez Perce Tribe, Melissa Groseclose, ICWA Caseworker, P.O. Box 365, Lapwai, ID 83540; Phone: (208) 843-2463; Fax: (202) 843-7137.

Nisqually Indian Community, Jim Phonias, ICWA Contact, 4820 She-Nah-Num Drive, SE, Olympia, WA 98513; Phone: (360) 456-5221; Fax: (360) 407-0318.

Nooksack Indian Tribe of Washington, Bobbie Hillaire, ICWA Contact, P.O. Box 648, Everson, WA 98247; Phone: (360) 592-5176; Fax: (360) 592-2125.

Northwestern Band of Shoshoni Nation, Lawrence Honena, ICWA Contact, 427 North Main, Suite 101, Pocatello, ID 83204; Phone: (208) 478-5712, Fax: (208) 478-5713.

P

Port Gamble Indian Community, Vickie Doyle, ICWA Contact, 31912 Little Boston Road, NE, Kingston, WA 98346; Phone: (360) 297-7623; Fax: (360) 297-4452.

Puyallup Tribe, Sandra Cooper, ICWA Liason, 1850 Alexander Avenue, Tacoma, WA 98421; Phone: (253) 573-7827; Fax: (253) 680-5998.

Q

Quileute Tribal Council, Margret Ward, ICWA Contact, P.O. Box 279, LaPush, WA 98350-0279; Phone: (360) 374-4325; Fax: (360) 374-6311.

Quinault Indian Nation Business Committee, Clara Hall, ICWA Contact, P.O. Box 189, Taholah, WA 98587-0189; Phone: (360) 276-8211 Ext 240; Fax (360) 267-6778.

S

Samish Indian Tribe of Washington, Keeley Titus, ICWA Specialist, P.O. Box 217, Anacortes, WA 98221; Phone: (360) 293-6404; Fax: (360) 299-0790.

Sauk-Suiattle Indian Tribe of Washington, Eldora Poitra, ICWA Director, 5318 Chief Brown Lane, Darrington, WA 98241; Phone: (360) 436-1400; Fax: (360) 436-1870.

Shoalwater Bay Tribal Council, Katherine Horne, ICWA Contact, P.O. Box 130, Tokeland, WA 98590; Phone: (360) 267-6766; Fax: (360) 267-0247.

Shoshone Bannock Tribes, ICWA, Ft. Hall Business Council, C/O Tribal Attorney, P.O. Box 306, Ft. Hall, ID 83203; Phone: (208) 478-3923; Fax: (208) 237-9736.

Siletz Tribal Council, Nancy McCrary, ICWA Manager, P.O. Box 549, Siletz, OR 97380-0549; Phone: (541) 444-2532, Fax: (541) 444-2307.

Skokomish Tribal Council, Kristin Hart, Terrie Remick, ICWA Contact, N. 80 Tribal Center Road, Shelton, WA 98584-9748; Phone: (360) 426-7788; Fax: (360) 877-6585.

Snoqualmie Tribe, Marie Ramirez, MSW, ICWA Contact, P.O. Box 280, Carnation, WA 98014; Phone: (425) 333-5425; Fax: (425) 333-5428.

Spokane Tribe of Indians, Debbie Timentwa-Thomas, ICWA Contact, P.O. Box 540, Wellpinit, WA 99040; Phone: (509) 258-7502; Fax: (509) 258-7029.

Squaxin Island Tribal Council, Linda Charette ICWA Contact, SE 70 Squaxin Lane, Shelton, WA 98584-9200; Phone: (360) 427-9006; Fax: (360) 427-1957.

Stillaguamish Tribe of Washington, Gary Ramey, ICWA Contact, P.O. Box 277, Arlington, WA 98223-0277; Phone: (360) 652-7362; Fax: (360) 435-7689.

Suquamish Indian Tribe of the Port Madison Reservation, Dennis Deaton, ICWA Contact, P.O. Box 498, Suquamish, WA 98392; Phone: (360) 394-8478; (Fax): 697-6774.

Swinomish Indians, Tracy Parker, ICWA Contact, P.O. Box 388, LaConner, WA 98257; Phone: (360) 466-7222; Fax: (360) 466-5309.

T

Tulalip Tribe, Linda Jones, ICWA Contact, 6700 Totem Beach Road, Marysville, WA 98271; Phone: (360) 651-3284; Fax: (360) 651-3290.

U

Upper Skagit Indian Tribe of Washington, Michelle Anderson-Kamato, ICWA Contact, 2284 Community Plaza Way, Sedro Woolley, WA 98284; Phone: (360) 856-4200; Fax: (360) 856-3537.

W

Warm Springs Tribal Court, Confederated Tribes of Warm Springs Reservation, Chief Judge Lola Sohappy, ICWA Contact, P.O. Box 850, Warm Springs, OR 97761; Phone: (541) 553-3454; Fax: (541) 553-3281.

Y

Nak Nu We Sha Program, Yakama Nation, ICWA, Attn: Ray E. Olney, Program Director or Delores Armour, Social Work Specialist, P.O. Box 151, Toppenish, WA 98948-0151; Phone: (509) 865-5121; Fax: (509) 865-2598.

Pacific Region

Regional Director, BIA, Federal Building, 2800 Cottage Way, Sacramento, CA 95825; Phone: (916) 978-6000; Fax: (916) 978-6055.

Kevin Sanders, Regional Social Worker, BIA-Federal Building, 2800 Cottage Way, Sacramento, CA 95825; Phone: (916) 978-6048; Fax: (916) 978-6055.

A

Agua Caliente Band of Cahuilla Indians, George Robinson Jr., MS Social Services Director, 901 E. Tahquitz Canyon Way, Palm Springs, CA 92262; Phone: (760) 864-1756, (800) 407-1820; fax (760) 864-1761.

Alturas Rancheria, Chairperson, P.O. Box 340, Alturas, CA 96101; Phone: (530) 233-5571.

Auburn Rancheria, Chairperson, United Auburn Indian Community, 661 Newcastle Road, Suite 1, Newcastle, CA 95658; Phone: (916) 663-3720.

Augustine Band of Mission Indians, Chairperson, P.O. Box 846, Coachella, CA 92236; Phone: (760) 369-7171.

B

Barona Band of Mission Indians, Program Director, Indian Child Social Services Department, Southern Indian Health Council, Inc., 4058 Willow Rd., Alpine, CA 91903; Phone: (619) 445-1188; fax (619) 445-0765.

Bear River Band of Rohnerville Rancheria, Chairperson, 32 Bear River Drive, Loleta, CA 95551; Phone: (707) 773-1900; Fax: (707) 733-1972.

Berry Creek Rancheria, Terilynn Stelle, ICWA Coordinator, 5 Tyme Way, Oroville, CA 95966; Phone: (530) 534-3859.

Big Lagoon Rancheria, Pamela Leach, Director, Two Feathers Native American Family Services, 2355 Central Avenue Suite C, McKinleyville, CA 95519; Phone: (707) 839-1933: Fax: (707) 839-1726.

Big Pine Reservation, Peggy Vega, ICWA Coordinator, Toiyabe Health Project, 52 Tu su Lane, Bishop, CA 93514; Phone: (760) 873-6394; Fax: (760) 873-3254.

Big Sandy Rancheria, Jennifer Celaya, ICWA Coordinator, P.O. Box 337, Auberry, CA 93602; Phone: (559) 855-4003; Fax: (559) 855-4129.

Big Valley Band of Pomo Indians, Tina M. Ramos, ICWA Coordinator, 2726 Mission Rancheria Road, Lakeport, CA 95453; Phone: (707) 263-3924; Fax: (707) 262-5672.

Bishop Reservation, Peggy Vega, ICWA Coordinator, Toiyabe Health Project, 52 Tu Su Lane, Bishop, CA 93514; Phone: (760) 873-6394. fax 873-3254.

Blue Lake Rancheria, Chairperson, P.O. Box 428, Blue Lake, CA 95525; Phone: (707) 668-5101.

Bridgeport Indian Colony, Peggy Vega, ICWA Coordinator, Toiyabe Health Project, 52 Tu Su Lane, Bishop, CA 93514; Phone: (760) 873-6394. fax 873-3254.

Buena Vista Rancheria, Chairperson, 4650 Coalmine Road, Ione, CA 95640; Phone: (209) 274-6512.

C

Cabazon Band of Mission Indians, Chairman, 84-245 Indio Springs Drive, Indio, CA 92201; Phone: (760) 342-2593; fax (760) 347-7880.

California Valley Miwok Tribe aka Sheep Ranch Rancheria, Chairperson, 10601 Escondido Place, Stockton, CA 95212; Phone: (209) 931-4567.

Cahuilla Band of Mission Indians, Executive Director, Indian Child & Family Services, P.O. Box 2269, Temecula, CA 92590; Phone: (951) 676-8832.

Campo Band of Mission Indians, Chairperson, 36190 Church Road, Suite 1, Campo, CA 91906; Phone: (619) 478-9046; fax (619) 478-5818.

Cedarville Rancheria, Chairperson, ICWA Director, 200 S. Howard Street, Alturas, CA 96101; Phone: (530) 233-3969; Fax: (530) 233-4776.

Chicken Ranch Rancheria, Chairperson, P.O. Box 1159, Jamestown, CA 95327; Phone: (209) 984-4806; Fax: (209) 984-5606.

Cloverdale Rancheria, Marcellena Becerra, ICWA Coordinator, 555 S. Cloverdale Blvd. Suite A, Cloverdale, CA 95425; Phone: (707) 894-5775; Fax: (707) 894-5727.

Cold Springs Rancheria, Jennifer Philley, ICWA Coordinator, P.O. Box 209, Tollhouse, CA 93667; Phone: (559) 855-5043; Fax: (559) 855-4445.

Colusa Rancheria, Yvonne Page, Community Services Dept, Children's Support Services, 3740 Highway 45, Colusa, CA 95932; Phone: (530) 458-8231.

Cortina Rancheria, Chairperson, P.O. Box 1630, Williams, CA 95987; Phone: (530) 473-3274.

Coyote Valley Reservation, Lorraine Laiwa, ICWA Coordinator, Indian Child Preservation Program, 684 S. Orchard Ave., Ukiah, CA 95482; Phone: (707) 485-8723.

Cuyapaipe Band of Mission Indians, (see Ewiiaapaayp), Tribal Administrator, P.O. Box 2250, Alpine, CA 91903-2250; Phone: (619) 445-6315; fax (619) 445-9126.

D

Dry Creek Rancheria, Lorraine Laiwa, ICWA Coordinator, Indian Child and Family Preservation Program, 684 S. Orchard Ave. Ukiah, CA 95482; Phone: (707) 485-8723.

E

Elem Indian Colony, Lorraine Laiwa, ICWA Coordinator, Indian Child and Family Preservation Program, 684 S. Orchard Ave. Ukiah, CA 95482; Phone: (707) 485-8723.

Elk Valley Rancheria, Chairperson, P.O. Box 1042, Crescent City, CA 95531; Phone: (707) 464-4680

Enterprise Rancheria, Harvey Angle, Chairperson, 1940 Feather River Blvd. Suite B, Oroville, CA 95965; Phone: (530) 532-9214; Fax: (530) 532-1768.

Ewiiaapaayp Band of Kumeyaay Indians, Tribal Administrator, P.O. Box 2250, Alpine, CA 91903-2250; Phone: (619) 445-2621; fax (619) 445-9126.

F

Fort Bidwell Reservation, Chairperson, P.O. Box 129, Fort Bidwell, CA 96112; Phone: (530) 279-6310; Fax: (530) 279-2621.

Fort Independence Reservation, Peggy Vega, ICWA Coordinator, Toiyabe Health Project, 52 Tu Su Lane, Bishop, CA 93514; Phone: (760) 873-6394; fax 873-3254.

G

Graton Rancheria, Joann Adams, ICWA Coordinator, P.O. Box 14428, Santa Rosa, CA 95402; phone (707) 566-2288 ext 1004.

Greenville Rancheria, ICWA Coordinator, Greenville Health Clinic, P.O. Box 279, Greenville, CA 95947; Phone: (530) 284-7990; Fax: (530) 284-6612.

Grindstone Rancheria, Tribal Administrator, P.O. Box 63, Elk Creek, CA 95939; Phone: (530) 968-5365.

Guidiville Rancheria, Chairperson, P.O. Box 339, Talmage, CA 95481; Phone: (707) 462-3682; Fax: (707) 462-9183.

H

Hoopa Valley Tribe, Director, Social Services, ICWA Program, P.O. Box 1267, Hoopa, CA 95546; Phone: (530) 625-4236.

Hopland Reservation, c/o ICWA Program, P.O. Box 610, Hopland, CA 95449; Phone: (707) 474-1647.

I

Inaja & Cosmit Band of Mission Indians, ICWA Manager, Department of Operations, Indian Health Council, Inc., P.O. Box 406, Pauma Valley, CA 92061; Phone: (760) 749-1410; fax (760) 749-5518.

Ione Band of Miwok Indians, Tribal Administrator, P.O. Box 1190, Ione, CA 95640; Phone: (209) 274-6753; Fax: (209) 274-6636.

J

Jackson Rancheria, ICWA Manager, Tuolumne Indian Child & Family Services, P.O. Box 615, Tuolumne, CA 95379; Phone: (209) 223-1935; Fax: (209) 223-5366.

Jamul Indian Village, Program Director, Indian Child Social Service Department, Southern Indian Health Council, 4058 Willows Rd., Alpine, CA 91903; Phone: (619) 445-1188; fax (619) 445-0765.

K

Karuk Tribe of California, Director, Social Services, ICWA Social Worker, 1519 S. Oregon Street, Yreka, CA 96097; Phone: (530) 493-1600 or (530) 842-9228.

L

La Jolla Band of Luiseno Indians, ICWA Manager, Department of Operations, Indian Health Council, Inc., P.O. Box 406, Pauma Valley, CA 92061; Phone: (760) 749-1410; fax (760) 749-5518.

La Posta Band of Mission Indians, Program Director, Indian Child Social Services Department, Southern Indian Health Council, 4058 Willows Rd., Alpine, CA 91903-2128; Phone: (619) 445-1188; fax (619) 445-0765.

Laytonville Rancheria, Debra Sanders, ICWA Director, P.O. Box 1239, Laytonville, CA 95454; Phone: (707) 984-6197.

Lone Pine Reservation, Chairperson, P.O. Box 747, Lone Pine, CA 93545; Phone: (760) 876-1034.

Lower Lake Rancheria, Chairperson, 1083 Vine Street #137, Healdsburg, CA 95448; Phone: (707) 431-1908.

Los Coyotes Band of Mission Indians, ICWA Manager, Department of Operations, Indian Health Council, Inc., P.O. Box 406, Pauma Valley, CA 92061; Phone: (760) 749-1410; fax (760) 749-5518.

Lytton Rancheria, Margie Mejia, Chairwoman, 1250 Coddingtown Center, Suite 1, Santa Rosa, CA 95401-3515; Phone: (707) 575-5917; Fax: (707) 575-6974.

M

Manchester-Point Arena Rancheria, Lorraine Laiwa, ICWA Coordinator, Indian Child Preservation Program, 684 S. Orchard Avenue, Ukiah, CA 95482; Phone: (707) 485-8723.

Manzanita Band of Mission Indians, Chairperson, P.O. Box 1302, Boulevard, CA 91905; Phone: (619) 766-4930; fax (619) 766-4957.

Mechoopda Indian Tribe of the Chico Rancheria, Chairperson, 125 Mission Ranch BLVD, Chico, CA 95926; Phone: (530) 899-8922; Fax: (530) 899-8517.

Mesa Grande Band of Mission Indians, ICWA Manager, Department of Operations, Indian Health Council, Inc., P.O. Box 460, Pauma Valley, CA 92061; Phone: (760) 749-1410; fax (760) 749-5518.

Middletown Rancheria, Lynette Funez, ICWA Coordinator, P.O. Box 1035, Middletown, CA 95461; Phone: (707) 987-3670.

Mooretown Rancheria, Francine Mckinley, ICWA Coordinator, 1 Alverda Drive, Oroville, CA 95966; Phone: (530) 533-3625; Fax: (530) 533-3680.

Morongo Band of Mission Indians, ICWA Representative, 11581 Potrero Road, Banning, CA 92220; Phone: (909) 849-4697; fax (909) 849-4425.

N

North Fork Rancheria, Elizabeth Fortune, ICWA Coordinator, P.O. Box 929, North Fork, CA 93643; Phone: (559) 877-2461; Fax: (559) 877-2467.

P

Pala Band of Mission Indians, Robert Smith, Chairperson, P.O. Box 50, Pala, CA 92059; Phone: (760) 742-3784; fax (760) 891-3582.

Paskenta Band of Nomlaki Indians, Ines Crosby, ICWA Coordinator, P.O. Box 398, Orland, CA 95963; Phone: (530) 865-2010; Fax: (530) 865-1870.

Pauma & Yuima Band of Mission Indians, ICWA Manager, Department of Operations, Indian Health Council, Inc., P.O. Box 406, Pauma Valley, CA 92061; Phone: (760) 749-1410; fax (760) 749-5518.

Pechanga Band of Mission Indians, Mark Macarro, Spokesman, P.O. Box 1477, Temecula, CA 92593; Phone: (951) 676-2768; fax (951) 695-1778.

Picayune Rancheria of Chukchansi Indians, ICWA Director, 46575 Road 417, Coarsegold, CA 93614; Phone: (559) 683-6633; fax 683-0599.

Pinoleville Reservation, Chairperson, 367 North State Street, Suite 204, Ukiah, CA 95482; Phone: (707) 463-1454.

Pit River Reservation, ICWA Director, 37014 Main Street, Burney, CA 96013; Phone: (530) 335-5421 or (866) 335-5530; Fax: (530) 335-3966.

Potter Valley Rancheria, ICWA Coordinator, 112 N. School St., Ukiah, CA 95482; Phone: (707) 462-1213.

Q

Quartz Valley Indian Reservation, ICWA Director, P.O. Box 24, Fort Jones, CA 96032; Phone: (530) 468-5729 or 5937; Fax: (530) 468-2491.

R

Ramona Band or Village of Cahuilla Mission Indians, Manuel Hamilton, P.O. Box 391372, Anza, CA 92539; phone (951) 676-8832; fax (951) 763-4325.

Redding Rancheria, Director, Social Services, 2000 Rancheria Road, Redding, CA 96001-5528; Phone: (530) 225-8979.

Redwood Valley Reservation, Mary Nevarez, ICWA Coordinator, 3250 Road 1, Redwood Valley, CA 95470; Phone: (707) 485-0361; Fax: (707) 485-5726.

Resighini Rancheria, Chairperson, P.O. Box 529, Klamath, CA 95548; Phone: (707) 482-2431; Fax: (707) 482-3425.

Rincon Band of Mission Indians, ICWA Manager, Department of Operations, Indian Health Council, P.O. Box 406, Pauma Valley, CA 92061; Phone: (760) 749-1410; fax (760) 749-8901.

Robinson Rancheria, Marsha Lee, ICWA Coordinator, P.O. Box 563, Nice, CA 95464; Phone: (707) 275-9363.

Round Valley Reservation, Valerie Britton, ICWA Coordinator, P.O. Box 448, Covelo, CA 95428; Phone: (707) 983-6126; Fax: (707) 983-6128.

Rumsey Rancheria, Paula Lorenzo, Chairperson, P.O. Box 18, Brooks, CA 95606; Phone: (530) 796-3400.

S

San Manuel Band of Mission Indians, Chairperson, P.O. Box 266, Patton, CA 92369; Phone: (909) 864-8933. Fax (909) 864-3370.

San Pasqual Band of Diegueno Indians, ICWA Manager, Department of Operations, Indian Health Council, Inc., P.O. Box 406, Pauma Valley, CA 92061; Phone: (760) 749-1410; fax (760) 749-5518.

Santa Rosa Band of Mission Indians, ICWA Representative, P.O. Box 609, Hemet, CA 92507; Phone: (951) 658-5311.

Santa Rosa Rancheria, ICWA Director, P.O. Box 8, Lemoore, CA 93245-0008; Phone: (559) 925-2940.

Santa Ynez Band of Mission Indians, Caren Romero, ICWA Coordinator, 90 Via Juana Lane, Santa Ynez, CA 93460; Phone: (805) 688-7070 ext. 43; fax (805) 686-2060.

Santa Ysabel Band of Mission Indians, Sonny Simms, Director, Santa Ysabel Social Services Dept., P.O. Box 130, Santa Ysabel, CA 92070. Phone (760) 765-0845; fax (760) 765-0320.

Scotts Valley Rancheria, Sharon Warner, ICWA Coordinator, 9700 Soda Bay Road, Kelseyville, CA 95451; Phone (707) 277-8870; fax (707) 277-8874.

Sherwood Valley Rancheria, Lorraine Laiwa, ICWA Coordinator, Indian Child and Family Preservation Program, 684 S. Orchard Ave., Ukiah, CA 95482; Phone: (707) 485-8723.

Shingle Springs Rancheria, Chairperson, ICWA Coordinator, P.O. Box 1340, Shingle Springs, CA 95682; Phone: (530) 676-8010.

Smith River Rancheria, Elvira Rodriquez, ICWA Director, 250 N Indian Road, Smith River, CA 95567-9525; Phone: (707) 487-9255; Fax: (707) 487-0930.

Soboba Band of Luiseno Indians, Project Manager, P.O. Box 487, San Jacinto, CA 92581; Phone: (951) 654-2765; fax (951) 654-4198.

Stewarts Point Rancheria, Lorraine Laiwa, Indian Child and Family Preservation Program, 684 S. Orchard Ave., Ukiah, CA 95482; Phone: (707) 485-8273.

Susanville Indian Rancheria, Chairperson, ICWA Director, P.O. Drawer U, Susanville, CA 96130; Phone: (530) 251-5205.

Sycuan Band of Mission Indians, Program Director, Indian Child Social Services Department, Southern Indian Health Council, 4058 Willow Rd., Alpine, CA 91903-2128; Phone: (619) 445-1188; fax (619) 445-0765.

T

Table Bluff Reservation, Elsie McLaughlin-Feliz, Director, Social Services, 1000 Wiyot Drive, Loleta, CA 95551; Phone: (707) 733-5055; Fax: (707) 733-5601.

Table Mountain Rancheria, Chairperson, P.O. Box 410, Friant, CA 93626-0410; Phone: (559) 822-2587; Fax: (559) 822-2693.

Timbi-sha Shoshone Tribe, Peggy Vega, Family Services Coordinator, Toiyabe Indian Health Project, 52 Tu Su Lane, Bishop, CA 93514; Phone: (760) 873-6394; fax 873-3254.

Torres-Martinez Desert Cahuilla Indians, Annette Chihuahua, ICWA Representative, P.O. Box 1160, Thermal, CA 92274; Phone: (760) 397-0300; fax (760) 397-8146.

Trinidad Rancheria, Chairperson, P.O. Box 630, Trinidad, CA 95570; Phone: (707) 677-0211; Fax: (707) 677-3921.

Tule River Reservation, ICWA Director, P.O. Box 589, Porterville, CA 93258; Phone: (559) 781-4271.

Tuolumne Rancheria, ICWA Coordinator, P.O. Box 699, Tuolumne, CA 95379; Phone: (209) 928-3475.

Twenty-Nine Palms Band of Mission Indians, Executive Director, Indian Child & Family Services, P.O. Box 2269, Temecula, CA 92590; Phone: (909) 676-8832.

U

Upper Lake Rancheria, Angelina Arroyo, ICWA Advocate, P.O. Box 516, Upper Lake, CA 95485; Phone: (707) 275-0737; fax 275-2007.

Utu Utu Gwaitu Paiute Tribe of the Benton Paiute Reservation, Joseph C. Saulque, Tribal Administrator, 567 Yellow Jacket Road, Benton, CA 93512; Phone: (760) 933-2321; fax 933-2412; e-mail numic@qnet.com.

V

Viejas (Baron Long) Band of Mission Indians, Program Director, Indian Child Social Services Department, Southern Indian Health Council, 4058 Willow Rd., Alpine, CA 91903-2128; Phone: (619) 445-1188; fax (619) 445-0765.

Y

Yurok Tribe, Director, Social Services, ICWA Coordinator, P.O. Box 1027, Klamath, CA 95548; Phone: (707) 482-1350.

Rocky Mountain Region

Keith Beartusk, Regional Director, 316 North 26th Street, Billings, Montana 59101; Phone: (406) 247-7943; Fax: (406) 247-7976.

Jo Ann Birdshead, Regional Social Worker, 316 North 26th Street, Billings, Montana 59101; Phone: (406) 247-7988; Fax: (406) 247-7566.

A

Assiniboine and Sioux Tribes of the Fort Peck Reservation of Montana, Chairman, P.O. Box, 1027, Poplar, Montana 59255; Phone: (406) 768-5155; Fax: (406) 768-5478.

B

Blackfeet Tribe of Montana, Indian Child Welfare Act (ICWA) Coordinator, P.O. Box 588 Browning, Montana 59417; Phone: (406) 338-7806; Fax: (406) 338-7726.

C

Chippewa Cree Tribe of the Rocky Boys Reservation of Montana, Tribal Chairman, Rural Route 1, P.O. Box 544, Box Elder, Montana 59521; Phone: (406) 395-4478; Fax: (406) 395-4497.

Crow Tribe of the Crow Reservation of Montana, Director of Tribal Social Services, P.O. Box 159, Crow Agency, Montana 59022; Phone: (406) 638-3932/5; Fax: (406) 638-3957.

E

Eastern Shoshone Tribe of the Wind River Reservation, Chairman, P.O. Box 217, Fort Washakie, Wyoming 82514; Phone: (307) 332-3040; Fax: (307) 332-4557.

G

Gros Ventre and Assiniboine Tribe of Fort Belknap Community Council, Director of Tribal Social Services, Rural Route 1, Box 66, Harlem, Montana 59526; Phone: (406) 353-2205; Fax: (406) 353-4634.

N

Northern Arapaho Tribe of the Wind River Reservation, Chairman, P.O. Box 217, Fort Washakie, Wyoming 82514; Phone: (406) 332-6120; Fax: (307) 332-3055.

Northern Cheyenne Tribe of the Northern Cheyenne Reservation, Director, Tribal Social Services, P.O. Box 128, Lame Deer, Montana 59043; Phone: (406) 477-8321; Fax: (406) 477-8333.

Southwest Region

Larry Morrin, Regional Director, P.O. Box 26567 (87125), 1001 Indian School Road, NW, Albuquerque, NM 87104; Phone: (505) 563-3100; Fax: (505) 563-3101.

Stephanie Birdwell, Regional Social Worker, P.O. Box 26567 (87125), 1001 Indian School Road, NW, Albuquerque, NM 87104; Phone: (505) 563-3522; Fax: (505) 563-3058.

*Pueblo of Acoma, Melissa Gordon, TEWA Social Worker, P.O. Box 309, Acoma, NM 87034; Phone: (505) 552-5151; (505) 552-7522.

*Pueblo of Cochiti, Hope Lewis, ICWA Director, P.O. Box 70, Cochiti, NM 87072; Phone: (505) 465-2244; Fax: (505) 465-1135.

*Pueblo of Isleta, Evelyn Ankerpont, ICWA Program, P.O. Box 1270, Isleta, NM 87022; Phone: (505)866-6607 or (505) 866-1144.

*Pueblo of Jemez, Henrietta Gachupin, Social Services Program, P.O. Box 340, NM 87024; Phone: (505) 834-7117; Fax: (505) 834-7103.

Jicarilla Apache Nation, Patricia (Pat) Serna, Director of Mental Health & Social Services, P.O. Box 546, Dulce, NM 87528; Phone: (505) 759-3162; Fax: (505) 759-3588.

Pueblo of Laguna, Miriam Sue Goetting, Family Services Program, P.O. Box 194, Laguna, NM 87026; Phone: (505) 562-9701/9713; Fax: (505) 552-6053.

Mescalero Apache Tribe, Irenis Noseep, Acting Supervisor for Social Services, P.O. Box 189, Mescalero, NM 88340; Phone (505) 464-4424; Fax: (505) 464-4238.

Pueblo of Nambe, Victoria Parrill, Health and Human Services Manager, P.O. Box 177-BB, Santa Fe, NM 87506; Phone (505) 455-2036 ext. 27; Fax (505) 455-2038.

Pueblo of Picuris, Denise Gallegos, ICWA Coordinator, P.O. Box 127, Penasco, NM 87553; Phone (505) 587-1003/2519; Fax (505) 587-1071.

Pueblo of Pojoaque, Carmen Chavez-Lujan, Director of Social Services, 58 Cities of Gold Rd. Suite 4, Santa Fe; NM 87506; Phone: (505) 455-0238; Fax: (505) 455-2363.

Ramah Navajo School Board, Inc., Director of Social Services, P.O. Box 250, Pine Hill, NM 87357; Phone (505) 775-3221; Fax: (505) 775-3520.

Pueblo of San Felipe, Darlene Valencia, Family Services Program Director, Pueblo of San Felipe, P.O. Box 4350, San Felipe Pueblo, NM 87004; Phone (505) 867-9740; Fax: (505) 867-6166.

Pueblo of San Ildelfonso, William Christian, Contracts Administrator, Route 5, P.O. Box 315-A, Santa Fe, NM 87506; Phone (505) 455-2273, ext. 310; Fax: (505) 455-7351.

*Pueblo of San Juan, Jackie Calabaza, ICWA Coordinator, P.O. Box 1187, San Juan Pueblo, NM 87566; Phone (505) 852-4400; Fax: (505) 852-4820 or (505) 852-1873

Pueblo of Sandia, Ms. Lupita Avila, ICWA Program, P.O. Box 6008, Bernalillo, NM 87004; Phone: (505) 771-5133; Fax: (505) 867-4997.

Pueblo of Santa Ana, Jane Jacksonbear, Director of Social Services, Pueblo of Santa Ana, 2 Dove Road, Bernalillo, NM 87004; Phone: (505) 867-3301; (505) 867-3395.

Pueblo of Santa Clara, Fidel Naranjo, ICWA Coordinator, P.O. Box 580, Espanola, NM 87532; Phone: (505) 747-9633; Fax: (505) 753-8988.

Pueblo of Santo Domingo, Doris Bailon, Director of Social Services, P.O. Box 129, Santo Domingo Pueblo, NM 87052; Phone: (505) 465-0630; Fax (505) 465-2554.

Southern Ute Indian Tribe, Denise Gurule, Case Worker I, P.O. Box 737, Ignacio, CO 81137; Phone (970) 563-0209; Fax (970) 563-0334.

Pueblo of Taos, Ms. Linda Aspenwind, ICWA Coordinator, Phyllis Dodson, Social Service Director, Pueblo of Taos, P.O. Box 1846, Taos, NM 87571; Phone: (505) 758-7824; Fax: (505) 758-3346; Fax: (505) 751-3345, respectively.

Pueblo of Tesuque, Rita Jojola-Dorame, ICWA Coordinator, Route 5, Box 360-T, Santa Fe, NM 87501; Phone: (505) 660-9508; Fax: (505) 982-2331.

Ute Mountain Ute Tribe (Colorado & Utah), Carla Knight-Cantsee, Social Services Director, P.O. Box 309, Towaoc, CO 81334; Phone: (970) 564-5307/5310; Fax: (970) 564-5300.

Ysleta del Sur Pueblo, Elizabeth Acosta, TEWA Family Case Worker, 119 South Old Pueblo Rd., Ysleta Station, El Paso, TX 79907; Phone: (915) 859-7913 ext. 151; Fax: (915) 859-5526.

Pueblo of Zia, Eileen Gachupin, ICWA Program or Mark Medina ICWA Coordinator, 135 Capital Square Drive, Zia Pueblo, NM 87053; Phone: (505) 867-3304; Fax: (505) 867-3308.

Pueblo of Zuni, Denise Sanchez, Family Preservation Worker, P.O. Box 339, Zuni, NM 87327; Phone: (505) 782-7166; Fax: (505) 782-5077.

Western Region

Wayne Nordwall, Regional Director, 400 North 5th Street (85004), P.O. Box 10, Phoenix, Arizona 85001; Phone: (602) 379-6600.

Evelyn S. Roanhorse, Regional Social Worker, 400 North 5th Street (85004), P.O. Box 10, Phoenix, Arizona 85001; Phone: (602) 379-6785.

A

Ak Chin Indian Community, Richard Huff, Tribal Social Worker, 47314 West Farrell Road, Maricopa, Arizona 85239; Phone: (520) 568-1092.

B

Battle Mountain Band Council, ICWA Coordinator, Social Services Program, 37 Mountain View Drive, Battle Mountain, Nevada 89820; Phone: (775) 635-2004, Ext. 102.

C

Chemehuevi Indian Tribe, Irene L. Anthony, Tribal Administrator, Indian Child Welfare Program, P.O. Box 1976, Havasu Lake, California 92363; Phone: (760) 858-4301.

Cocopah Indian Tribe, Mr. Kermit A. Palmer, Tribal Administrator, County 15 and Ave. G, Somerton, Arizona 85350; Phone: (520) 627-2102.

Colorado River Indian Tribes, Daniel Eddy, Jr., Chairman, Route 1, Box 23-B, Parker, Arizona 85344; Phone: (928) 669-1220.

D

Duckwater Shoshone Tribal Council, Ms. Nancy Abel, MSW, P.O. Box 140068, Duckwater, Nevada 89314; Phone: (775) 863-0227.

E

Elko Band Council, Lillian Garcia, ICWA Coordinator; Margaret Yowell, Social Service Worker, 1745 Silver Eagle Dr., Elko, Nevada 89801; Phone: (775) 738-8889.

Ely Shoshone Tribal Council, Social Service Director, 400-B Newe View, Ely, Nevada 89301; Phone: (775) 289-4133, Fax: 775/289-3237.

F

Fallon Paiute Shoshone Business Council, Donna Sharp, Acting Director, Youth & Family Services, 565 Rio Vista Drive, Fallon, Nevada 89406; Phone: (775) 423-1215.

Fort McDermitt Tribal Council, Karen Crutcher, Chairperson, P.O. Box 457, McDermitt, Nevada 89421; Phone: (775) 532-8259.

Fort McDowell Yavapai Tribe, Attention: CPS/ICWA Coordinator, Family and Community Services, P.O. Box 17779, Fountain Hills, Arizona 85269; Phone: (480) 837-5076.

Fort Mojave Indian Tribe, Attention: Social Services Director, 500 Merriman Avenue, Needles, California 92363; Phone: (760) 629-3745.

G

Gila River Pima-Maricopa Indian Community, Attention: Drake Lewis, Tribal Social Service Director, P.O. Box 97, Sacaton, Arizona 85247; Phone: (520) 562-3711, Ext 233.

Goshute Business Council (Nevada and Utah), Chairman, P.O. Box 6104, Ibapah, Utah 84034; Phone: (435) 234-1138.

H

Havasupai Tribe, Attention: Phyllis Jones, ICWA Coordinator, P.O. Box 10, Supai, Arizona 86435; Phone: (928) 448-2731, Fax: (928) 448-2143.

Hopi Tribe of Arizona, Hopi Guidance Center Social Services, Mr. C. Frank Freeman, Clinical Supervisor, P.O. Box 68, Second Mesa, Arizona 86043; Phone: (928) 737-2685.

Hualapai Tribe, Attention: Emma Clark, Program Manager and/or Shirley Reed, ICWA Program, P.O. Box 397, Peach Springs, Arizona 86434; Phone: (928) 769-2207, Fax: (928) 769-2494.

K

Kaibab Band of Paiute Indians, Jenny Kalauli, Director, Social Services Program, HC 65 Box 2, Pipe Spring, Arizona 86022; Phone: (928) 643-6010.

L

Las Vegas Paiute Tribe, Ruth Fitzpatrick, Social Services Worker, One Paiute Drive, Las Vegas, Nevada 89106; Phone: (702) 382-0784.

Lovelock Paiute Tribal Council, Attention: Susan Calvin, Indian Child Welfare Coordinator, P.O. Box 878, Lovelock, Nevada 89419; Phone: (775) 273-7861.

M

Moapa Band of Paiute Indians Business Council, Roberta Hanks, P.O. Box 340, Moapa, Nevada 89025-0340; Phone: (702) 865-2787.

P

Paiute Indian Tribe of Utah, Attention: Mr. Allan Pauole, ICWA Caseworker, 440 North Paiute Drive, Cedar City, Utah 84720; Phone: (435) 586-1112.

Pascua Yaqui Tribe, Office of the Attorney General, Tamara Walters, Assistant Attorney General, 4725 West Calle Tetakusim, Bldg. B, Tucson, Arizona 85746; Phone: (520) 883-5108; Fax: (520) 883-5084.

Pyramid Lake Paiute Tribal Council, Bonnie Akaka-Smith, Chairperson, P.O. Box 256, Nixon, Nevada 89424; Phone: (775) 574-1000.

Q

Quechan Tribal Council, President, P.O. Box 1899, Yuma, Arizona 85366-1899; Phone: (760) 572-0213; Fax: (760) 572-2102.

R

Reno-Sparks Indian Colony, Attention: Director of Social Services, 98 Colony Road, Reno, Nevada 89502; Phone: (775) 329-5071.

S

Salt River Pima-Maricopa Indian Community, Office of the General Counsel or Social Services Division, Child Protective Services, 10,005 East Osborn Road, Scottsdale, Arizona 85256; Phone: (480) 850-4130.

San Carlos Apache Tribe, Terry Ross, Director of Tribal Social Services, P.O. Box 0, San Carlos, Arizona 85550; Phone: (928) 475-2313/2314; Fax: (928) 475-2342.

San Juan Southern Paiute Tribe, Administration Office, P.O. Box 1989, Tuba City, Arizona 86045; Phone: (928) 283-4587, Fax: (928) 283-5761.

Shoshone-Paiute Tribes of the Duck Valley Reservation (Nevada), Chairman, P.O. Box 219, Owyhee, Nevada 89832; Phone: (208) 759-3100.

Skull Valley Band of Goshute Indians, Attention: ICWA Program Office, Metropolitan Plaza, Suite 110, 2480 S. Main Street, South Salt Lake City, Utah 84115; Phone: (801) 474-0535.

South Fork Band Council, Karen McDade, Director, Social Services Program, 21Lee, B13, Spring Creek, Nevada 89815; Phone: (775) 744-2412.

Summit Lake Paiute Tribe, Attn: Tribal Chairperson, 653 Anderson Street, Winnemucca, Nevada 89445; Phone: (775) 623-5151.

T

Te-Moak Tribe of Western Shoshone Indians, Chairman, 525 Sunset Street, Elko, Nevada 89801; Phone: (775) 738-9251.

Tohono O'odham Nation, Office of Attorney General, P.O. Box 830, Sells, Arizona 85634; Phone: (520) 383-3410.

Tonto Apache Tribe, Jerry Gramm, Social Services Director, Tonto Apache Reservation #30, Payson, Arizona 85541; Phone: (928) 474-5000, Fax: (928) 474-9125.

U

Ute Indian Tribe of the Uintah & Ouray Reservation (Utah), Attention: ICWA Worker, P.O. Box 190, Fort Duchesne, Utah 84026; Phone: (475) 722-5141, Ext. 4032.

W

Walker River Paiute Tribe, Chairperson, P.O. Box 220, Schurz, Nevada 89427; Phone: (775) 773-2306.

Washoe Tribe of Nevada and California (Carson Colony, Dresslerville, Woodfords, Stewart and Washoe Community Councils), Social Services Director, 919 Hwy, 395 South, Gardnerville, Nevada 89410; Phone: (775) 883-1446.

Wells Indian Colony Band Council, Chairman, P.O. Box 809, Wells, Nevada 89835; Phone: (775) 752-3045.

White Mountain Apache Tribe, Department of Social Services, ATTN: Cynthia Burnett, Child Welfare Administrator, Department of Social Services, P.O. Box 1870, Whiteriver, Arizona 85941; Phone: (928) 338-4164, Fax: (928) 338-1469.

Winnemucca Tribe, Chairman, P.O. Box 1370, Winnemucca, Nevada 89446.

Y

Yavapai-Apache Nation, Indian Child Welfare Act, Attn: Frieda A. Eswonia, Coordinator, 2400 Datsi Street, Camp Verde, Arizona 86322-8412; Phone: (928) 567-9439 Ext. 21, Fax: (928) 567-6485; Email: feswonia@yan-tribe.org.

Yavapai Prescott Indian Tribe, Attention: Alex Spence, ICWA, 530 East Merritt Avenue, Prescott, Arizona 86301; Phone: (928) 777-0532, Fax: (928) 445-7945.

Yerington Paiute Tribe, Mr. Wayne M. Garcia, 171 Campbell Lane, Yerington, Nevada 89447; Phone: (775) 463-3301.

Yomba Tribe, Chairman, HC61, Box 6275, Austin, Nevada 89310; Phone: (775) 964-2463.

[FR Doc. 05-5470 Filed 3-18-05; 8:45 am]

BILLING CODE 4310-4J-P